DEPARTMENT OF TRANSPORTATION

Research and Special Programs Administration

Actions on Exemption Applications

AGENCY: Research and Special Programs Administration, D.O.T.

ACTION: Notice of actions on exemption applications.

SUMMARY: In accordance with the procedures governing the application for, and the processing of, exemptions from the Department of Transportation's Hazardous Materials Regulations (49 CFR part 107, Subpart B), notice is hereby given of the actions on exemption applications in January-December 2001. The modes of transportation involved are identified by a number in the “Nature of Application” portion of the table below as follows: 1—Motor vehicle, 2—Rail freight, 3—Cargo vessel, 4—Cargo aircraft only, 5—Passenger-carrying aircraft. Application numbers prefixed by the letters EE represent applications for Emergency Exemptions. It should be noted that some of the sections cited were those in effect at the time certain employees were issued.

Issued in Washington, DC, on February 27, 2002.
J. Suzanne Hedgepeth,
Director, Office of Hazardous Materials, Exemptions and Approvals.

Application No. | Exemption No. | Applicant | Regulation(s) affected | Nature of exemption thereof
Modification Exemptions
4354-M | DOT-E 4354 | PPG Industries, Inc., Pittsburgh, PA | 49 CFR 173.226(b) | To modify the exemption to authorize the use of plastic pallets for the loading of polyethylene drums or composite packagings transporting certain Division 6.1 materials.
4661-M | DOT-E 4661 | Chemetall Foote Corporation, Kings Mountain, NC | 49 CFR 173.34(e)(1) | To modify the exemption to allow for alternative retest procedures for 4BA240 and 4BW240 cylinders; to allow for the transportation of Division 4.3 materials.
5022-M | DOT-E 5022 | Thiokol Propulsion Corp., Brigham City, UT | 49 CFR 174.101(L), 174.104(d), 174.112(a), 177.834(l)(1) | To modify the exemption to authorize the transportation of an additional Division 1.3C material in temperature controlled equipment.
6614-M | DOT-E 6614 | HCI-Clearwater Chemical Corporation, Clearwater, FL | 49 CFR 173.202, 173.203 | To modify the exemption to authorize the transportation of an additional Class 8 material in a non-DOT specification polyethylene bottle, packed inside a high density polyethylene box.
7823-M | DOT-E 7823 | Honeywell International, Inc., Morristown, NJ | 49 CFR 173.246 | To modify the exemption to authorize the transportation of certain Class 3 materials in a non-DOT specification cylinder.
7823-M | DOT-E 7823 | Honeywell International, Inc., Morristown, NJ | 49 CFR 173.246 | To modify the exemption to allow for the transportation of a Class 8 material in non-DOT specification welded stainless steel cylinders complying with DOT Specification 4BW cylinders with certain exceptions.
7954-M | DOT-E 7954 | Air Products and Chemicals, Inc., Allentown, PA | 49 CFR 173.301(d)(2), 173.302(a)(3) | To modify the exemption to change the proper shipping name and placard provisions for the transportation of certain compressed gases in manifolded DOT Specification cylinders.
8013-M | DOT-E 8013 | Praxair, Inc., Danbury, CT | 49 CFR 173.302, 173.304, 175.3 | To modify the exemption to allow for the use of DOT 4E240 specification cylinders having a capacity up to 2,642 cubic inches to be used exclusively for sampling purposes.
8451-M | DOT-E 8451 | TRW Automotive, Queen Creek, AZ | 49 CFR 173.3, 173.52, 173.54, 173.60, 174.3, 175.3, 177.801 | To modify the exemption to waive the requirement to have a copy of the exemption accompany the shipment of not more than 25 grams of Division 1.1 materials.
8698-M | DOT-E 8698 | Taylor-Wharton Gas Equipment (Div of Harsco Corp), Theodore, AL | 49 CFR 173.320, 176.76 | To modify the exemption concerning the pressure relief valve, specified retest pressure and OWTT recordkeeping requirements of non-DOT specification portable tanks transporting certain Division 2.2 materials.
8757-M | DOT-E 8757 | YZ Systems, Inc., Conroe, TX | 49 CFR 173.302(a)(1), 173.304(a)(1), 173.304(b)(1), 175.3, 178.42 | To modify the exemption to authorize a design change of the non-DOT specification stainless steel cylinder for shipment of compressed gases.
8760-M | DOT-E 8760 | Barton Solvents, Inc., Des Moines, IA | 49 CFR 172.328, 172.334(b) | To modify the exemption to allow for the transportation of additional Class 3 materials in cargo tanks having six or more compartments.
8826-M | DOT-E 8826 | Phoenix Air Group, Inc., Cartersville, GA | 49 CFR 172.101, 172.204(c)(3), 173.27, 175.30(a)(1), 175.320(b) | To modify the exemption to revise Flight Plan language in Section 7.h. of the exemption to apply to flights inside the United States only.
8865-M | DOT-E 8865 | Carleton Technologies, Inc., Orchard Park, NY | 49 CFR 173.302(a)(4), 175.3 | To modify the exemption to update the packaging language of the non-DOT specification cylinders to include the reclassified pyrotechnic devices for the transportation of compressed gases.
8865-M | DOT-E 8865 | Carleton Technologies, Inc., Orchard Park, NY | 49 CFR 173.302(a)(4), 175.3 | To modify the exemption to allow for the refilling of the gas storage system consisting of a non-DOT specification cylinder with pyrotechnic relief devices for the transportation of helium.
8915-M | DOT-E 8915 | Air Liquide America Corporation, Allentown, PA | 49 CFR 173.301(d), 173.302(a)(3), 173.302(a)(5) | To modify the exemption to authorize the addition of certain Division 2.1 and 2.2 materials transported in certain manifolded DOT Specification cylinders.
8971-M | DOT-E 8971 | Baker Atlas, Houston, TX | 49 CFR 172.101 Column 4, 173.246, 175.3 | To modify the exemption to authorize the use of additional design assemblies of the non-refillable, non-Dot specification steel cylinders for the transportation of certain Division 5.1 materials.
8995-M | DOT-E 8995 | BASF Corporation, Mount Olive, NJ | 49 CFR 173.315(a)(1), 173.346, 174.63(b) | To modify the exemption to allow for the transportation of an additional Division 2.2 material in non-DOT specification steel portable tanks.
9048-M | DOT-E 9048 | Sulton Group-Div. of Daniel/Brooks Petroleum, Tulsa, OK | 49 CFR 173.119, 173.304, 173.315 | To modify the exemption to authorize the use of an additional portable meter prover and an increase of the internal volume to 290 gallons for the transportation of Division 2.2 and Class 3 materials.
9347-M | DOT-E 9347 | PGI International, Houston, TX | 49 CFR 173.302(a)(1), 173.304(a)(1), 173.304(b)(1), 175.3, 178.42 | To modify the exemption to change wording in the exemption to clarify the requirements for hydrostatic/pressure testing of the non-DOT specification stainless steel cylinders.
9421-M | DOT-E 9421 | Taylor-Wharton (Harsco Corporation), Harrisburg, PA | 49 CFR 173.301(h), 173.302, 173.304, 173.34(a)(1), 175.3, 178.37 | To modify the exemption to eliminate the Fracture Toughness Test requirement and to authorize extending the initial requalification period from 5 years to 10 years of the non-DOT specification steel cylinders when used in specific non-corrosive, dry gas service.
9508-M | DOT-E 9508 | Callery Chemical Company, Pittsburgh, PA | 49 CFR 173.202(a)(3), 173.34(e), 175.3 | To modify the exemption to authorize periodic external inspection of DOT-4BW240 cylinders as an alternative to periodic hydrostatic testing and inspection for the transportation of certain Division 4.3 materials.
9525-M | DOT-E 9525 | Air Products and Chemicals, Inc., Allentown, PA | 49 CFR 178.42, Part 173, Subparts D, E, H | To modify the exemption to allow for the transportation of additional Class 3 materials in a non-DOT specification welded stainless steel cylinder.
9729-M | DOT-E 9729 | Honeywell International, Inc., Morristown, NJ | 49 CFR 173.246(a)(1), 178.61-5 | To modify the exemption to allow for the transportation of a Division 5.1 material in Type 304L stainless steel cylinders complying with the requirements of DOT Specification 4BW.
9758-M | DOT-E 9758 | The Coleman Company, Inc., Wichita, KS | 49 CFR 173.304(d)(3)(ii), 178.33 | To modify the exemption to authorize a design change of the non-refillable, non-DOT specification inside container for the transportation of certain Division 2.1 gases.
9884-M | DOT-E 9884 | Mallinckrodt, Inc. (Puritan Bennett Corp), Indianapolis, IN | 49 CFR 173.316, 178.57-(8)(c), 178.57-2 | To modify the exemption to authorize a new pressure vessel design unit for the transportation of certain Division 2.2 materials.
9929-M | DOT-E 9929 | Orbital Sciences Corporation, Germantown, MD | 49 CFR 172.101, 173.62 | To modify the exemption to update the list of cargo air carriers and airports of departure for the transport of rocket motors having weights exceeding those specified in the regulations.
10066-M | DOT-E 10066 | CONAX Florida Corporation, St. Petersburg, FL | 49 CFR 173.304, 178.36 | To modify the exemption to update drawing configurations of the non-DOT specification cylinder pertaining to a self-inflating life raft for shipment of Division 2.2 and Class 9 materials.
10143-M | DOT-E 10143 | Eurocom, Inc., Irving, TX | 49 CFR 173.306(a), 178.33a | To modify the exemption to authorize cargo and passenger-carrying aircraft as additional modes of transportation for Division 2.2 materials in a non-DOT specification container.
10389-M | DOT-E 10389 | Great Lakes Chemical Corporation, El Dorado, AR | 49 CFR 174.67(i) | To modify the exemption to authorize the transportation of Bromine, Class 8 (6.1) in tank cars to remain standing with unloading connections attached when no product is being transferred.
10441-M | DOT-E 10441 | Pacific Northwest National Laboratory, Richland, WA | 49 CFR 173.12(b)(6), 177.848(b) | To modify the exemption to allow for the transportation of Class 3, 8, 9, Division 4.1, 4.2, 4.3, and 5.1 materials in lab-packs on the same vehicle with non-lab packed acidic materials.
10458-M | DOT-E 10458 | Marsulex, Inc., North York, Ontario, CA | 49 CFR 174.67(j) | To modify the exemption to authorize the use of additional unloading facilities for the transportation of Class 8 and Division 2.3 materials in DOT Specification 111A100W2 tank car tanks.
10481-M | DOT-E 10481 | M1 Engineering Limited, Bradford, West Yorkshire, UK | 49 CFR 172.203, 173.318, 173.320, 176.30, 176.76(h), 178.338 | To modify the exemption to authorize a design change of the non-DOT specification vacuum installed portable tank, in an ISO frame, for the transportation of certain refrigerated liquids.
10501-M | DOT-E 10501 | Semi-Bulk Systems, Inc., Fenton, MO | 49 CFR 180.352(d) | To modify the exemption to update reference language concerning Flexible Intermediate Bulk Container reuse provisions and repair procedures.
10656-M | DOT-E 10656 | Conf. of Radiation Control Program Directors, Inc., Frankfort, KY | 49 CFR 172.203(d), Part 172, Subparts C, D, E, F, G | To modify the exemption to revise approval provisions and documentation required for shipments of metal containing unknown amounts of unidentified radionuclides.
10672-M | DOT-E 10672 | Burlington Packaging, Inc., Brooklyn, NY | 49 CFR 173.13 | To modify the exemption to authorize alternative configuration combination packaging for liquid and solid hazardous materials without hazard labels or placards.
10688-M | DOT-E 10688 | Alaska Air Taxi, Anchorage, AK | 49 CFR 175.310(c) | To modify the exemption to authorize alternative packaging for the non-DOT specification polyethylene containers with an increased container size to 6 gallons for the transportation of a Class 3 material; the addition of cargo aircraft only as an additional mode of transportation.
10695-M | DOT-E 10695 | 3M Company, St. Paul, MN | 49 CFR 172.101, 172.400(b), 172.504(e) | To modify the exemption to authorize various changes to the packaging and safety control measures for the transportation of ethylene oxide packaged in aluminum cartridges within a fiberboard box.
10751-M | DOT-E 10751 | Dyno Nobel, Inc., Salt Lake City, UT | 49 CFR 177.848 | To modify the exemption to authorize the transportation of Class 1.4D, 1.4B, 1.1B and additional 1.1D explosives in the same motor vehicle with certain bulk combustible liquids and/or bulk Division 5.1 oxidizers.
10798-M | DOT-E 10798 | Lyondell Chemical Co/EQUISTAR Chemicals, LP, Houston, TX | 49 CFR 174.67(i), (j) | To modify the exemption to allow for the transportation of additional Division 2.1 and Class 3 materials in DOT specification tank cars.
10869-M | DOT-E 10869 | Norris Cylinder Company, Longview, TX | 49 CFR 173.301(b), 173.302(a)(5), 173.304(a), 173.34, 175.3, 178.37 | To modify the exemption to clarify the fracture toughness test requirements, for design qualification only, of non-DOT specification steel cylinders transporting certain compressed gases.
10915-M | DOT-E 10915 | Luxfer Gas Cylinders (Composite Cylinder Div), Riverside, CA | 49 CFR 173.302(a)(1), 173.304(a)(d), 175.3 | To modify the exemption concerning the requalification and fiber damage criteria of the non-DOT specification fully wrapped carbon-fiber reinforced aluminum lined cylinders for the transportation of various flammable and non-flammable gases.
10945-M | DOT-E 10945 | Structural Composites Industries, Pomona, CA | 49 CFR 173.302(a), 173.304(a), 175.3 | To modify the exemption to allow for the transportation of additional Division 2.2 materials in non-DOT specification fiber reinforced plastic full composite cylinders.
10945-M | DOT-E 10945 | Structural Composites Industries, Pomona, CA | 49 CFR 173.302(a), 173.304(a), 175.3 | To modify the exemption concerning the requalification of the non-DOT specification fully wrapped carbon-fiber reinforced aluminum lined cylinders from a 3-year to a 5-year requalification interval for the transportation of various flammable and non-flammable gases.
10945-M | DOT-E 10945 | Structural Composites Industries, Pomona, CA | 49 CFR 173.302(a), 173.304(a), 175.3 | To modify the exemption to authorize the transportation of an additional Division 2.2 material in non-DOT specification fully wrapped carbon fiber reinforced aluminum lined cylinders.
10977-M | DOT-E 10977 | Federal Industries Corporation, Plymouth, NM | 49 CFR 173.402(a)(2), 172.504(a), 173.25(a), 173.3, 175.3, Table 1 | To modify the exemption to eliminate the requirement that the intermediate packaging be placed in a metal can for the transportation of limited quantities of solid hazardous materials in specially designed combination packaging without hazard labels or placards.
10985-M | DOT-E 10985 | Georgia-Pacific Corporation, Atlanta, GA | 49 CFR 174.67(i), (j) | To modify the exemption to allow for the transportation of Division 2.1 materials in tank cars.
11044-M | DOT-E 11044 | Chem-Tech, Ltd., Des Moines, IA | 49 CFR 173.334 | To modify the exemption to authorize the use of additional cylinders without exceeding cylinder service pressure for the transportation of a reformulated organophosphate product.
11054-M | DOT-E 11054 | Welker Engineering Company, Sugar Land, TX | 49 CFR 178.36 Subpart C | To modify the exemption to authorize an increase to the outside diameter of the non-DOT specification cylinder, conforming to 3A specification, for use in shipment of Division 2.1, 2.3 and Class 3 materials.
11153-M | DOT-E 11153 | Pacific Northwest National Laboratory, Richland, WA | 49 CFR 177.848(d) | To modify the exemption to specifically authorize the transport of waste materials in combination packaging in the same transport vehicle with other Class/Division materials.
11185-M | DOT-E 11185 | Medical Waste Solutions, Inc., Gary, IN | 49 CFR 173.197 | To modify the exemption to more accurately describe the non-DOT specification bulk packaging used for the transportation of Division 6.2 materials.
11186-M | DOT-E 11186 | Chart Industries, Inc. (Storage Systems Div.), Denver, CO | 49 CFR 173.318 | To modify the exemption to authorize the addition of new vessel assemblies for the non-DOT specification vacuum insulated portable tanks, comparable to DOT Specification MC 338 cargo tank motor vehicle, for the transportation of Division 2.1 and 2.2 materials.
11194-M | DOT-E 11194 | Carleton Technologies, Inc., Pressure Tech. Div., Glen Burnie, MD | 49 CFR 173.304(a), 175.3, 49 CFR 173.302(a) | To modify the exemption concerning the requalification of the non-DOT specification fully wrapped carbon-fiber reinforced aluminum lined cylinders from a 3-year to a 5-year requalification interval for the transportation of various flammable and non-flammable gases.
11194-M | DOT-E 11194 | Carleton Technologies, Inc., Pressure Tech. Div., Glen Burnie, MD | 49 CFR 173.304(a), 175.3, 49 CFR 173.302(a) | To modify the exemption to authorize the transportation of an additional Division 2.2 material in non-DOT specification full wrapped carbon fiber reinforced aluminum lined cylinders.
11202-M | DOT-E 11202 | Newport News Shipbuilding & Dry Dock Co., Newport News, VA | 49 CFR 173, 49 CFR 172 | To modify the exemption to allow for the transportation of Division 6.1 and additional Class 8, Class 9 and Division 5.1 materials to cross a public road, from one part of a plant to another.
11226-M | DOT-E 11226 | E.R. Carpenter, L.P., Pasadena, TX | 49 CFR 174.67(a), (j) | To modify the exemption to allow for the transportation of Class 3 materials in DOT specification tank cars.
11226-M | DOT-E 11226 | E.R. Carpenter, L.P., Pasadena, TX | 49 CFR 174.67(a),(j) | To modify the exemption to authorize tank cars to be unloaded using an alternative monitoring system.
11344-M | DOT-E 11344 | E.I. DuPont de Nemours and Company, Inc., Wilmington, DE | 49 CFR 174.67(i), (j) | To modify the exemption to allow for the transportation of Division 4.3, Class 9 and additional Class 3, 8 and Division 6.1 materials in tank cars.
11344-M | DOT-E 11344 | E.I. DuPont de Nemours and Company, Inc., Wilmington, DE | 49 CFR 174.67(i), (j) | To modify the exemption to authorize the transportation of additional Class 3 materials in DOT Specification tank cars.
11434-M | DOT-E 11434 | Fisher Scientific Chemical Division, Fair Lawn, NJ | 49 CFR 174.64(j) | To modify the exemption to authorize the transportation of an additional Class 3 material in tank cars authorized to remain standing with unloading connections attached when no product is being transferred.
11440-M | DOT-E 11440 | PPG Industries, Inc., Pittsburgh, PA | 49 CFR 173.227(c) | To modify the exemption to authorize the use of plastic pallets for the loading of polyethylene drums or composite packagings transporting certain Division 6.1 materials.
11473-M | DOT-E 11473 | Astaris, LLC, St. Louis, MO | 49 CFR 173.31(a), 179.100-1, 179.103-3, 179.103-4 | To modify the exemption to remove language for tank cars with a safety relief device having a start-to-discharge pressure of 44.1 percent of the tank test pressure.
11494-M | DOT-E 11494 | Atlantic Research Corp., Automotive Produtcs Group, Knoxville, TN | 49 CFR 173.301(h), 173.302, 173.306(d)(3) | To modify the exemption to allow for the transportation of additional Division 2.2 materials in non-DOT specification cylinders for use as components of automotive vehicle safety systems.
11526-M | DOT-E 11526 | BOC Gases, Murray Hill, NJ | 49 CFR 172.302(c),(2),(3),(4),(5), 173.34(15)(vi), 173.34(e)(1), (3), (4)(8) | To modify the exemption concerning the calibration cylinder specification testing requirements of 3A and 3AA cylinders.
11536-M | DOT-E 11536 | Boeing Satellite Systems, Inc., Los Angeles, CA | 49 CFR 173.159, 173.302, 173.304, 173.62 | To modify the exemption to allow for the transportation of additional division 2.2 materials in non-DOT specification packaging.
11579-M | DOT-E 11579 | Dyno Nobel, Inc., Salt Lake, UT | 49 CFR 177.848(e)(2) | To modify the exemption to authorize the addition of Division 1.1B, 1.4B, 1.1D and 5.1 materials to be transported on the same cargo unit with Division 1.5D explosives, without a common wall divider and the addition of truck designs for the transportation of these materials.
11579-M | DOT-E 11579 | Dyno Nobel, Inc., Salt Lake City, UT | 49 CFR 177.848(e)(2) | To modify the exemption to authorize the transportation of Division 1.1D and 1.4D explosives on the same motor vehicle with Division 1.5D explosives.
11620-M | DOT-E 11620 | CCL Container, Don Mills, Ontario, CN | 49 CFR 173.306(3)(ii) | To modify the exemption to authorize an increase in the container and burst pressure; allow for the transportation of Division 2.1 materials in non-DOT specification cylinders.
11650-M | DOT-E 11650 | Autoliv ASP, Inc. Ogden, UT | 49 CFR 178.65-9 | To modify the exemption to authorize a design change of the non-DOT specification non-refillable cylinder utilizing a sidewall gas fill port with a maximum service pressure of 5000 PSIG.
11749-M | DOT-E 11749 | Union Tank Car Company, E. Chicago, IN | 49 CFR 172.203(a), 172.302(c), 180.509(e) | To modify the exemption to change the availability/retention requirements of data documents used for alternative testing methods of DOT specification tank cars.
11761-M | DOT-E 11761 | Hawkins, Inc. Minneapolis, MN | 49 CFR 172.302(c), 173.31(d)(1)(vi) | To modify the exemption to authorize the transportation of additional Class 8 materials in certain DOT Specification and AAR Specification tank cars with a modified inspection procedure.
11761-M | DOT-E 11761 | The Mead Corporations, Dayton, OH | 49 CFR 172.302 (c), 173.31(d)(1)(vi) | To modify the exemption to authorize the transportation of additional Class 8 materials in certain DOT and AAR Specification tank cars with a modified inspection procedure.
11782-M | DOT-E 11782 | Aeronex, Inc., San Diego, CA | 49 CFR 173.212 | To modify the exemption to authorize rail freight and cargo vessel as additional modes of transportation for Division 4.2 materials in non-DOT specification cylinders.
11786-M | DOT-E 11786 | Dow Corning Corporation, Midland, MI | 49 CFR 174.67(i), (j) | To modify the exemption to allow for the transportation of Division 2.1 and additional Class 8 materials in DOT Specification tank cars.
11798-M | DOT-E 11798 | Air Products and Chemicals, Inc., Allentown, PA | 49 CFR 173.34(e)(15), 173.34(e)(15)(ii) | To modify the exemption to allow for an alternative testing requirement for DOT Specification 3A and 3AA cylinders for the transportation of certain Division 2.1 and 2.2 gases; to allow for an increase of the moisture limit to 25ppm.
11798-M | DOT-E 11798 | Anderson Development Company, Adrian, MI | 49 CFR 173.34(e)(15), 173.34(e)(15)(ii) | To modify the exemption to allow for cargo aircraft only as an authorized mode of transportation for the transportation of Division 2.1 and 2.2 gases in DOT Specification 3A or 3AA cylinders; addition of a new provision to paragraph 8 of the exemption.
11826-M | DOT-E 11826 | Spectra Gases, Inc., Branchburg, NJ | 49 CFR 173.302(a)(5) | To modify the exemption to authorize the transportation of additional Division 2.2 materials in DOT-3AL aluminum cylinders.
11916-M | DOT-E 11916 | CP Industries, Inc., McKeesport, PA | 49 CFR 173.302(e)(2), 173.302(e)(4), 173.302(e)(5), 173.34(e)(1), (3)(4) | To modify the exemption to authorize the use of additional DOT Specification cylinders with an outside diameter equal to or larger than 18 inches; correct language in the exemption dealing with monitoring and reporting.
11924-M | DOT-E 11924 | UF Strainrite, Lewiston, ME | 49 CFR 173.12(b) | To modify the exemption to authorize a UN 11HH2 intermediate bulk container as an outer packaging for lab pack applications transporting various classes of hazardous wastes.
12003-M | DOT-E 12003 | Degussa Corporation, Parsippany, NJ | 49 CFR 172.102, T-15, T-37 | To modify the exemption to authorize the inclusion of four additional DOT specification IM 101 steel portable tanks for the transportation of hydrogen peroxide, stablized, that exceeds the 72 percent maximum concentration.
12022-M | DOT-E 12022 | Taylor-Wharton (Harsco Gas & Fluid Control Group), Harrisburg, PA | 49 CFR 173.302(c)(2), (c)(3), (c)(4), (c)(5), 173.34(e)(1), (e)(3), (e)(4), (e)(8), 173.34(e)(14), (e)(15)(vi) | To modify the exemption to include 3BN cylinders and alternative test equipment/procedures for use in transporting Division 2.1, 2.2 and 2.3 materials.
12068-M | DOT-E 12068 | United States Sea Launch GP, L.L.C., Long Beach, CA | 49 CFR 173.56, 173.60 | To authorize an additional lithium battery material to paragraph 6 for the launch vehicle.
12074-M | DOT-E 12074 | Van Hool NV B-2500 Lier, Koningshooikt, BG | 49 CFR 178-245-1(a) | To modify the exemption to allow for minor editorial drawing changes/addition of Code Cases 2261 and 2265 for the manufacture, mark and sale of DOT Specification steel portable tanks designed, constructed and stamped in accordance with Division 2 of Section VIII of the ASME B&PV Code for the transport of Division 2.1 and 2.2 materials.
12074-M | DOT-E 12074 | Van Hool NV B-2500 Lier, Koningshooikt, BE | 49 CFR 178-245-1(a) | To modify the exemption to update the filling requirements to include suitable liquid level gauging devices for the transportation of Division 2.1 and 2.2 materials in DOT Specification steel portable tanks.
12084-M | DOT-E 12084 | Honeywell International, Inc., Morristown, NJ | 49 CFR 173.34(e)(11) | To modify the exemption to allow for the transportation of Division 2.1 and 2.3 materials in DOT Specification 4B, 4BA and 4BW cylinders that have alternativ2e retest requirements.
12102-M | DOT-E 12102 | Onyx Environmental Services, L.L.C., Ledgewood, NJ | 49 CFR 173.56(i) | To modify the exemption to allow for the transportation of densitized Division 5.1 and additional Class 3 materials; cargo vessel as an additional mode of transportation; expanded transportation services.
12102-M | DOT-E 12102 | Onyx Environmental Services, L.L.C., Ledgewood, NJ | 49 CFR 173.56(i) | Petition for reconsideration of the proper shipping name, domestic vs. international, for the transportation of certain Division 1.1D, unstable waste laboratory mixtures that have been densitized to remove their explosive characteristics, as Division 4.1 flammable solids.
12116-M | DOT-E 12116 | Proserv (North Sea), Ltd., Aberdeen AB11 5RJ, Scotland, UK | 49 CFR 178.36 | To modify the exemption to authorize a change to the maximum operating pressure and volume of non-DOT specification cylinders used for oil well sampling.
12122-M | DOT-E 12122 | Atlantic Research Corp. Automotive Products Group, Knoxville, TN | 49 CFR 173.301(h), 173.302, 173.306(d)(3) | To modify the exemption to allow for a design change to use openings in the sidewall for filling the pressure vessel, used as a component of an automobile safety system.
12122-M | DOT-E 12122 | Atlantic Research Corp., Automotive Products Group, Knoxville, TN | 49 CFR 173.301(h), 173.302, 173.306(d)(3) | To modify the exemption to allow for the transportation of additional Division 2.2 materials in non-DOT specification cylinders for use as components of automotive vehicle safety systems.
12124-M | DOT-E 12124 | Albermarle Corporation, Baton Rouge, LA | 49 CFR 173.242, 178.245-1(c), 178.245-1(d)(4) | To modify the exemption to allow for the transportation of additional Division 4.3 materials in a non-DOT specification portable tank.
12130-M | DOT-E 12130 | FIBA Technologies, Inc., Westboro, MA | 49 CFR 173.318, 176.30, 176.76(h), 178.338 | To modify the exemption to authorize a new portable tank design and the transportation of additional Division 2.2 materials in non-DOT specification insulated portable tanks.
12178-M | DOT-E 12178 | STC Technologies, Inc., Bethlehem, PA | 49 CFR 173.301(e)(f), 173.304(a)(1), 173.304(a)(3) | To modify the exemption to expand the relief granted in paragraph 6 to include exportation.
12184-M | DOT-E 12184 | Weldship Corporation, Bethlehem, PA | 49 CFR 173.302(c)(2)(3)(4), 173.34(e)(1), 173.34(e)(3), 173.34(e)(4), 173.34(e)(6) | To modify the exemption to authorize alternative testing procedures of DOT-3A and DOT-3AA cylinders.
12284-M | DOT-E 12284 | American Traffic Safety Services Assn. (ATSSA), Fredericksburg, VA | 49 CFR 173.242 | To modify the exemption to authorize an increase in the maximum capacity to 500 gallons of the non-DOT specification cargo tanks used for roadway striping.
12296-M | DOT-E 12296 | Clean Earth Systems, Inc., Tampa, FL | 49 CFR 173.12(b)(2)(i) | To modify the exemption to authorize an inner polyethylene liner for the UN 11G fiberboard intermediate bulk container having a minimum thickness of six (6) mils for the transportation of various classes of hazardous materials.
12301-M | DOT-E 12301 | Steptoe & Johnson LLP, Washington, DC | 49 CFR 173.193(b), 172.203(a), 172.301(c) | To modify the exemption to waive the marking requirements so that shipping papers and cylinders do not have to bear the DOT exemption number.
12334-M | DOT-E 12334 | Autoclave Engineers, Erie, PA | 49 CFR 178.36 | To modify the exemption to authorize the transportation of Division 2.2, Class 3, Division 6.1 and additional Division 2.1 materials in non-DOT specification cylinders.
12405-M | DOT-E 12405 | Air Products and Chemicals, Inc., Allentown, PA | 49 CFR 173.304(a)(2), 173.304(b) | To modify the exemption to authorize 3T, 3AAX and 3AX cylinders as additional packagings for the transportation of Division 2.1, 2.2 and 2.3 materials; and changes to the operational controls concerning pressure and temperature monitoring.
12442-M | DOT-E 12442 | Cryogenic Vessel Alternatives, La Porte, TX | 49 CFR 176.76(g)(1), 178.318 | To modify the exemption to waive the impact test requirements for stainless steel portable tanks for materials used in a lading warmer than -425 degrees.
12515-M | DOT-E 12515 | FIBA Technologies, Inc., Westboro, MA | 49 CFR 172.101, 178.338-10, 178.338-13, 178.338-2(c), 178.338-6(a), 178.338-9(b) | To modify the exemption to authorize, as an optional requirement, the installation of a manhole for non-DOT specification vacuum-insulated portable tanks in oxygen service.
12557-M | DOT-E 12557 | Global Container Group, Inc., Baton Rouge, LA | 49 CFR 178.245 | To reissue the exemption originally issued on an emergency basis authorizing the construction of certain DOT Specification 51 steel portable tanks designed in accordance with Section VIII, Division 1 of the ASME Code, except for design margin, for the transportation of certain Division 2.1 and 2.2 materials.
12561-M | DOT-E 12561 | Rodia, Incorporated, Cranbury, NJ | 49 CFR 172.203(a), 173.31, 179.23 | To modify the exemption to allow for the use of the Barber S-2-HD model truck for the transportation of Class 8 materials in DOT Specification 111S100W-2 tank cars.
12580-M | DOT-E 12580 | Matheson Tri-Gas, East Rutherford, NJ | 49 CFR 173.301(j) | To reissue the exemption originally issued on an emergency basis for certain non-DOT specification foreign cylinders which are charged for export only transporting certain Division 4.3 materials.
12581-M | DOT-E 12581 | Ball Aerospace & Technologies Corp., Boulder, CO | 49 CFR 173.302(a)(1), 173.304(a)(2), 173.34(d), 175.3, 177.801(a) | To reissue the exemption originally issued on an emergency basis for the transportation of helium in non-DOT specification packaging.
12582-M | DOT-E 12582 | State of Michigan (Dept. of State Police), East Lansing, MI | 49 CFR 173.25, 175.85 | To reissue the exemption originally issued on an emergency basis for the transportation of first aid/trauma kits containing 2.2 gases in a passenger-carrying aircraft.
12590-M | DOT-E 12590 | USAirways, Inc., Pittsburgh, PA | 49 CFR 173.159 | To modify the exemption originally issued on an emergency basis for the transportation of certain Class 8 materials in non-DOT specification specially designed containers and the transportation of an additional Class 8 material.
12595-M | DOT-E 12595 | Marsulex, Inc., North York, Ontario, CN | 49 CFR 172.540 | To reissue the exemption originally issued on an emergency basis for the transportation of sulfur dioxide in a tank car using Division 2.3 international placards.
12595-M | DOT-E 12595 | Marsulex, Inc., Toledo, OH | 49 CFR 172.540 | To modify the exemption to authorize rerouting a Division 2.3 residue tank car for reloading at a different site while the car is in transit without change of placard and the addition of a Division 2.3 material.
12606-M | DOT-E 12606 | Toyota Motor Sales, U.S.A., Inc., Torrance, CA | 49 CFR 171.12(b)(19) and 172.203(a) | To reissue the exemption originally issued on an emergency basis for the one-way transportation of certain Class 9 materials by motor vehicle from port of entry to a distribution facility, within 60 miles, without “EX” number on the shipping papers.
12626-M | DOT-E 12626 | SMI Companies, Franklin, LA | 49 CFR 173.243(c) | To modify the exemption to authorize the transportation of additional Class 8 materials in a non-DOT specification steel portable tank equipped with an external bottom discharge valve.
12628-M | DOT-E 12628 | Arbel Fauvet Rail (AFR), 59500 Douai, FR | 49 CFR 178.245-1(b) | To reissue the exemption originally issued on an emergency basis authorizing the use of DOT Specification 51 tank containers that have been designed, constructed and “U” stamped in accordance with Section VIII, Division 1 of the ASME Code transporting Division 2.1 and 2.2 materials.
12633-M | DOT-E 12633 | Isolair Helicopter Systems, Troutdale, OR | 49 CFR 173.202 | To reissue the exemption originally issued on an emergency basis for the transportation of gasoline in a non-DOT specification, non-bulk package (drum) mounted in a heli-torch frame.
12637-M | DOT-E 12637 | Island Gases Limited, Christiansted, St. Croix, U.S., VI | 49 CFR 173.320 | To reissue the exemption originally issued on an emergency basis for the transportation of certain Division 2.2 materials in non-DOT specification vacuum insulated portable tanks.
12643-M | DOT-E 12643 | TRW Space and Electronics Group, Redondo Beach, CA | 49 CFR 173.302 and 175.3 | To reissue the exemption originally issued on an emergency basis for the transportation of a Division 2.2 material in a non-DOT specification refrigeration system described as a pulse tube cooler.
12652-M | DOT-E 12652 | Eagle-Picher Technologies, LLC, Joplin, MO | 49 CFR 173.302(a), 173.34(d), 175.3 | To reissue the exemption originally issued on an emergency basis for the transportation of a Division 2.1 material in a non-DOT specification pressure vessel.
12663-M | DOT-E 12663 | Skolnik Industries, Chicago, IL | 49 CFR 172,203(a), 172,301(c), 178.3(c), 178.503(a) | To reissue the exemption originally issued on an emergency basis authorizing the use of UN standard steel drums that do not conform to the marking requirements of the hazardous materials regulations.
12664-M | DOT-E 12664 | Myers Container Corporation, Hunting Park, CA | 49 CFR 172.203, 172.301, 178.3(c), 178.503(a) | To reissue the exemption originally issued on an emergency basis authorizing the use of UN standard steel drums that do not conform to the marking requirements of the hazardous materials regulations.
12665-M | DOT-E 12665 | Packaging Specialities, Inc., Medina, OH | 49 CFR 172,203(a), 172.301(c), 178.3(c), 178.503(a) | To reissue the exemption originally issued on an emergency basis authorizing the use of UN standard steel drums that do not conform to the marking requirements of the hazardous materials regulations.
12688-M | DOT-E 12688 | Brenntag West, Inc., Santa Fe Springs, CA | 49 CFR 172.203(a), 172.203(a), 173.158(b)(1)(i) | To modify the exemption originally issued on an emergency basis for the transportation in commerce of a Class 8 material in drums that do not meet the minimum thickness requirements.
12705-M | DOT-E 12705 | Brenntag Mid-South, Inc., Henderson, KY | 49 CFR 172.203(a), 173.158(b)(1)(i) | To reissue the exemption originally issued on an emergency basis for the transportation of a Class 8 material in drums that do not meet the minimum thickness requirements.
12735-M | DOT-E 12735 | Collbri Group Providence, RI | 49 CFR 172.102(c)(5), 172.301(c), 172.406(a)(1)(ii) | To modify the exemption to correct the name of the freight carrier.
12771-M | DOT-E 12771 | Cytec Industries, Inc., West Paterson, NJ | 49 CFR 173.34(d) | To reissue the exemption originally issued on an emergency basis for the transportation of certain Division 2.3 materials in DOT Specification 3AA2400 cylinders not fitted with a pressure relief device and to increase the cylinder pressure to a maximum of 840 psig at 70 degrees F.
12808-M | DOT-E 12808 | Linco-Electromatic Measurement, Inc., Kilgore, TX | 49 CFR 173.120, 173.304, 173.315 | To reissue the exemption originally issued on an emergency basis for the transportation of Class 3 materials in a non-DOT specification container described as a truck mounted mechanical displacement meter prover.
New Exemptions
11489-N | DOT-E 11489 | Atlantic Research Corporation, Gainsville, VA | 49 CFR 172.320, 173.56(b) | To authorize the transportation of airbag inflators without required EX number or examination. (mode 1)
12142-N | DOT-E 12142 | Aristech Chemical Corp., Pittsburgh, PA | 49 CFR 174.67(i) | To authorize rail cars to remain standing with unloading fittings attached without the physical presence of an unloader. (mode 3)
12248-N | DOT-E 12248 | Ciba Specialty Chemicals Corp., High Point, NC | 49 CFR 171.12(b)(5), 173.242 | To authorize the transportation in commerce of Corrosive solid, flammable, n.o.s., Class 8, in IM 101 portable tanks not presently authorized. (modes 1, 2, 3)
12290-N | DOT-E 12290 | Savage Industries, Inc., Pottstown, PA | 49 CFR 174.67(a)2 | To authorize an alternative blocking method of rail cars while transferring various classes of hazardous materials. (mode 2)
12293-N | DOT-E 12293 | Intercontinental Packaging Corp., Tuckahoe, NY | 49 CFR 173.306(a)(3)(v), 178.33a-2 & 8 | To authorize the manufacture, marking, and sale of non-DOT specification non-refillable metal and plastic aerosol containers filled with a propellant gas. (modes 1, 2, 3, 4)
12339-N | DOT-E 12339 | BOC Gases, Murray Hill, NJ | 49 CFR 173.192(a)(3), 173.302(a)(5), 173.302(f), 173.304(a)(4), 173.304(d)(3)(i) | To authorize the transportation in commerce of various Division 2.1 and 2.3 gases in DOT Specification 3AL aluminum cylinders, overpacked in freight containers. (mode 3)
12368-N | DOT-E 12368 | Occidental Chemical Corp., Dallas TX | 49 CFR 179.13 | To authorize the transportation in commerce of DOT 111A100W1 two-compartment tank cars containing Chromium trioxide, anhydrous, Division 5.1, that exceed the gross weight limitation. (mode 2)
12422-N | DOT-E 12422 | Connecticut Yankee Atomic Power Co., East Hampton, CT | 49 CFR 173.403, 173.427(b)(1) | To authorize the transportation in commerce of a specially designed device for use in transporting radioactive material, Class 8. (modes 1, 2)
12443-N | DOT-E 12443 | ChemCentral/Charlotte, Charlotte, NC | 49 CFR 174.67(i) & (j) | To authorize rail cars containing Class 8 hazardous materials to remain attached to unloading connectors without the physical presence of an unloader. (mode 2)
12454-N | DOT-E 12454 | Ethyl Corp., Richmond, VA | 49 CFR 180.509(1), 180.509(e) | To authorize an alternative testing method for DOT class 105 tank cars for use in transporting various classes of hazardous materials. (mode 2)
12469-N | DOT-E 12469 | Department of Energy, Germantown, MD | 49 CFR 180.407 | To authorize an alternative testing method for DOT-Specification MC 312 and MC 412 cargo tanks used in transporting radioactive materials, Class 7 and corrosive materials, Class 8. (mode 1)
12473-N | DOT-E 12473 | Old Bridge Metals & Chemicals, Inc., Old Bridge, NJ | 49 CFR 173.28(b) | To authorize the refilling of UN authorized packaging by the original user of the product with waste material which is being returned to the original manufacturer for treatment without performing leakproofness test prior to refilling. (mode 1)
12475-N | DOT-E 12475 | Chemetall GmbH Gesellschaft, Langlshiem, DE | 49 CFR 173.181, 173.28(b)(2) | To authorize the transportation in commerce of lithium alkyls, Division 4.2, in certain 1A1 drums, without undergoing a leakproofness test prior to each refilling when refilled with lithium alkys and certain other liquid hazardous materials. (mode 1)
12479-N | DOT-E 12479 | Luxfer Gas Cylinders, Riverside, CA | 49 CFR 173.302(a)(1), 175.3 | To authorize the manufacture, mark, sale and use of non-DOT specification fiberglass hoop wrapped cylinders for the transportation in commerce of certain compressed gases. (modes 1, 2, 3, 4, 5)
12495-N | DOT-E 12495 | South Carolina Electric & Gas Co., Jenkinsville, SC | 49 CFR 172, 173, Parts 171 | To authorize the transportation in commerce of radioactive material packages, Class 7, from one facility to another using state road that would be transported as essentially unregulated. (mode 1)
12497-N | DOT-E 12497 | Henderson International Technologies, Inc., Richardson, TX | 49 CFR 173.302(a)(1), 173.314(c) | To authorize the manufacture, mark and sale of a specially design container frame mounted and manifolded to a motor vehicle in conformance with DOT Specification 107A for transportation in commerce of certain Division 2.2 gases. (mode 1)
12515-N | DOT-E 12515 | FIBA Technologies, Inc., Westboro, MA | 49 CFR 172.101, 178.338-10, 178.338-13, 178.338-2(c), 178.338-6(a), 178.338-9(b) | To authorize the transportation in commerce of non-DOT specification portable tanks for use in transporting various Division 2.2 material. (modes 1, 2)
12516-N | DOT-E 12516 | Poly-Coat Systems, Inc., Houston, TX | 49 CFR 107.503(b)(c), 172.102(c)(3)B15 & B23, 173.241; 173.242; 178.345-1; -2; -3; -4; -7; -14; -15; 178.347-1; -2; 178.348-1, 178.348-2, 180.405, 180.413(d) | To authorize the manufacture, marking and sale of non-DOT specification cargo tanks constructed of fiberglass reinforced plastic for use in transporting various classes of hazardous materials. (mode 1)
12531-N | DOT-E 12531 | Worthington Cylinder Corporation, Columbus, OH | 49 CFR 173.302(a), 173.304(a), 173.304(d), 178.61(b), 178.61(f), 178.61(g), 178.61(i), 178.61(k) | To authorize the manufacture, marking, sale and use of non-DOT specification cylinders designed in accordance with DOT 4BW specification for use in transporting various hazardous materials. (modes 1, 2, 3, 4)
12532-N | DOT-E 12532 | Carleton Technologies Inc., Orchard Park, NY | 49 CFR 173.302(a), 175.3 | To authorize the manufacture, marking, sale and use of non-DOT specification cylinders similar to DOT specification 39 cylinder for use in transporting helium, Division 2.2 (modes 1, 2, 4)
12536-N | DOT-E 12536 | Department of Energy, Albuquerque, NM | 49 CFR 173.211 | To authorize the transportation in commerce of a specially designed device consisting of a sealed stainless steel containment vessel overpacked in a steel transport container for an oxidizing solid, Division 5.1 (mode 1)
12538-N | DOT-E 12538 | Champagne Specialties, Inc., Fairport, NY | 49 CFR 180.519 | To authorize the repair and alteration of multi-tank car tanks that conform to alternative requirements for qualification and maintenance. (mode 1)
12547-N | DOT-E 12547 | Rohm and Haas Company, Philadelphia, PA | 49 CFR 177.834(i)(3) | To authorize the loading and/or unloading of hazardous materials to/from cargo tank motor vehicles without the physical presence of an unloader. (mode 1)
12549-N | DOT-E 12549 | Griro S.A., Romania | 49 CFR 178.245-1(a) | To authorize the manufacture, marking, sale and use of DOT Specification 51 steel portable tanks permanently installed in an ISO frame that have been designed, constructed and stamped in accordance with Section VIII, Division 2 instead of Division 1 of the ASME Code. (modes 1, 2, 3)
12552-N | DOT-E 12552 | Illbruck Sealant Systems B.V., The Netherlands | 49 CFR 173.306(a)(3)(v) | To authorize an alternative testing method for specially designed aerosol containers for use in transporting limited quantities of Division 2.1 material. (modes 1, 2, 3)
12562-N | DOT-E 12562 | Tae Yang Industrial Co., Ltd., Cheonan-City, South, KR | 49 CFR 173.304(d)(3)(ii) | To authorize the transportation in commerce of Division 2.1 hazardous materials in nonrefillable non-DOT specification inside containers conforming to DOT Specification 2P except for size, testing requirements and markings. (modes 1, 2, 3, 4)
12563-N | DOT-E 12563 | Department of Energy, Washington, DC | 49 CFR 173.211 | To authorize the one-time transportation of a specially designed device consisting of ASME AS240 Type 316 stainless steel with wall thickness of 0.33 for use in transporting a Division 4.3 material. (mode 1)
12564-N | DOT-E 12564 | Carleton Technologies Inc., Orchard Park, NY | 49 CFR 173.302 | To authorize the transportation in commerce of non-DOT specification pressure vessels similar to specification 39 for use in transporting helium, Division 2.2. (modes 1, 2, 4)
12573-N | DOT-E 12573 | US Can Company, Elgin, IL | 49 CFR 173.304(e), 173.306(a) | To authorize the transportation in commerce of a non-refillable non-DOT specification container similar to a DOT Specification 2Q for use in transporting certain refrigerant gases, classed as non-flammable aerosols. (modes 1, 2, 3, 4)
12574-N | DOT-E 12574 | Weldship Corporation, Bethlehem, PA | 49 CFR 172.302(c)(2), (3), (4), (5), Subpart F of Part 180 | To authorize an acoustic emmision test in lieu of hydrostatic retest and internal inspection of DOT 107A tubes used for transporting compressed gases. (modes 1, 2, 3)
12589-N | DOT-E 12589 | Air Products & Chemicals, Inc., Allentown, PA | 49 CFR 173.163 | To authorize the reuse of 3BN (nickel) cylinders that have been used for hydrogen fluoride service to tungsten hexafloride service, Division 2.3. (modes 1, 3)
12592-N | DOT-E 12592 | Matson Navigation Co., San Francisco, CA | 49 CFR 176.905 | To authorize the transportation in commerce of combustion-powered motor vehicles in freight containers in cargo vessel holds that are not ventilated. (mode 3)
12599-N | DOT-E 12599 | Voltaix, Inc., North Branch, NJ | 49 CFR 173.301 (d) (2), 173.302 | To authorize the transport of silicon tetrafluoride in DOT Specification 3AAX and 3AA manifolded cylinders. (mode 1)
12607-N | DOT-E 12607 | FIBA Technologies Inc., Westboro, MA | 49 CFR (vi), 173.34(e)(1), (e)(3), (e)(4), (e)(8), (e)(14), (e)(15) | To authorize an alternative method of retest for DOT 3AL seamless cylinders manufactured from 6061 alloy for use in transporting Division 2.1, 2.2 and 2.3 materials. (modes 1, 2, 3, 4, 5)
12608-N | DOT-E 12608 | Solvay Interox, Inc., Houston, TX | 49 CFR 172.102(c)(7)(ii) | To authorize the transportation in commerce of hydrogen peroxide aqueous solutions in concentrations exceeding 72 percent but not exceeding 92 percent in DOT specification IM 101 steel portable tanks. (modes 1, 3)
12609-N | DOT-E 12609 | Department of Defense (DOD), Alexandria, VA | 49 CFR 171.14(a)(1), 172.301(c) | To authorize the transportation in commerce of non-bulk packagings containing Class 8 material that are no longer authorized for transportation. (mode 1)
12613-N | DOT-E 12613 | Nova Chemical Co., Red Deer, Alberta, CN | 49 CFR 172.203(a), 173.31(c)(1), 179.13 | To authorize the transportation in commerce of a Class 3 material in DOT112J340 tank cars with a maximum gross weight on rail that exceed the maximum limit of 263,000 pounds. (mode 2)
12622-N | DOT-E 12622 | Atlantic Research Corporation, Knoxville, TN | 49 CFR 172.200, 172.500 | To authorize the transportation in commerce of Division 1.3C, 1.4C, and 2.2 airbags without the required shipping papers and placarding. (mode 1)
12626-N | DOT-E 12626 | SMI Companies, Franklin, LA | 49 CFR 173.243(c) | To authorize the manufacture, mark, sale and use of non-DOT specification steel portable tanks equipped with external bottom discharge valves for use in transporting Class 8 material. (modes 1, 3)
12629-N | DOT-E 12629 | Western Sales & Testing of Amarillo, Inc., Amarillo, TX | 49 CFR 173.34(e) | To authorize an alternative method of retest for DOT 3A, 3AA, 3AAX and 3T compressed gas cylinders for use in transporting liquefied or nonliquefied compressed gases, or mixtures as presently authorized, (modes 1, 2, 3)
12631-N | DOT-E 12631 | Precision Medical, Northhampton, PA | 49 CFR 178.57(d) | To authorize the transportation in commerce of a portable cryogenic cylinder containing oxygen, Division 2.2. (mode 1)
12632-N | DOT-E 12632 | SET Environmental Inc., Wheeling, IL | 49 CFR 173.197 | Request for an emergency exemption to transport med waste in a bulk container for a one-time movement. (mode 1)
12633-N | DOT-E 12633 | Isolair Helicopter Systems, Troutdale, OR | 49 CFR 173.202 | Request for an emergency exemption for the use of a non-bulk package for the use in an integral component of a flame application system (heli-torch). (mode 1)
12644-N | DOT-E 12644 | Strategic Composites, Haverford, PA | 49 CFR 173.302(a), 173.304(a)(1), 175.3 | To authorize the manufacture, mark, sale and use of non-DOT specification cylinders for use in transporting certain flammable and nonflammable compressed gases. (modes 1, 2, 3, 4)
12645-N | DOT-E 12645 | Draeger Safety, Inc., Pittsburgh, PA | 49 CFR 173.301, 173.34 | To authorize the transportation in commerce of non-DOT specification cylinders manifolded with one pressure relief device to be used as part of a self contained breathing apparatus for transporting oxygen. (modes 1, 4)
12647-N | DOT-E 12647 | Wisconsin Public Service Corporation (WPSC), Green Bay, WI | 49 CFR 173.403, 173.427(b)(1) | To authorize the transportation in commerce of two steam generator assemblies as surface contaminated objects that exceed the authorized quantity limitations. (mode 3)
12650-N | DOT-E 12650 | Coleman Powermate, Inc., Kearney, NE | 49 CFR 173.34(d) | To authorize the transportation in commerce of 3AL cylinders equipped with spring-loaded pressure relief devices for use in transporting hydrogen absorbed in metal hydride. (modes 1, 2, 3, 4)
12652-N | DOT-E 12652 | Eagle-Picher Technologies, LLC, Jopline, MO. | 49 CFR 173.302(a), 173.34(d), 175.3 | To authorize the transportation in commerce of certain non-DOT specification pressure vessels containing compressed hydrogen, which are a component of a nickel hydrogen battery. (modes 1, 2, 4)
12657-N | DOT-E 12657 | Oshkosh Truck Corporation, Oshkosh, WI. | 49 CFR 178.345-3(f)(3)(i) | To authorize the transportation in commerce of cargo tanks equipped with attachments that exceed the authorized spacing limits. (mode 1)
12668-N | DOT-E 12668 | Tri-Wall, Butler, IN | 49 CFR 173.12(b)(2)(i) | To authorize the manufacture, mark, sale and use of certain UN 11G flexible intermediate bulk container for use as the outer packaging for lab pack applications in accordance with 49 CFR 173.12(b)(2)(i) as well as 40 CFR 173.240-243. (mode 1)
12669-N | DOT-E 12669 | Aristech Chemical Corporation, Pittsburgh, PA. | 49 CFR 177.834(i)(4) | To authorize an alternative attendance requirement of cargo tanks during loading and unloading of Class 9 material. (mode 1)
12670-N | DOT-E 12670 | Taylor-Wharton, Theodore, AL. | 49 CFR 178.57(1)(1)(2)(3), 178.57, (f) | To authorize the manufacture, mark, sale and use of DOT-4L specification cylinders using an alternative lot size at the time of manufacturing. (mode 1)
12671-N | DOT-E 12671 | Carleton Technologies Inc., Orchard Park, NY. | 49 CFR 173.302(a)(4), 175.3, 178.65 | To authorize the transportation in commerce of non-DOT specification cylinders for use in transporting helium. (modes 1, 2, 4)
12679-N | DOT-E 12679 | Applied Companies, Santa Clarita, CA. | 49 CFR 173.302(a), 178.65 | To authorize the transportation in commerce of non-DOT specification cylinders comparable to Specification 39 non-reusable for use in transporting oxygen. (mode
12682-N | DOT-E 12682 | EP Container Corp., Santa Fe Springs, CA. | 49 CFR 173.12(b)(2)(i) | To authorize the manufacture, mark, sale and use of certain UN 11G Fiberboard Intermediate Bulk Containers (IBC), for use as the poison pack outer packaging when transporting certain hazardous materials. (mode 1)
12686-N | DOT-E 12686 | Carleton Technologies Inc., Orchard Park, NY. | 49 CFR 173.302(a), 175.3 | To authorize the manufacture, marking, sale and use of a nonrefillable non-DOT specification cylinder conforming to DOT specification 39 cylinder for use in transporting Division 2.2 non-flammable compressed gas. (modes 1, 2, 4)
12691-N | DOT-E 12691 | TITEQ Corporation, Palmdale, CA. | 49 CFR 173.302(a)(2), 175.3, 178.35, 178.44 | To authorize the manufacture, mark, sale and use of non-DOT specification cylinder conforming to DOT Specification 3HT cylinder for use in transporting certain hazardous materials classed in Division 2.2. (modes 1, 2, 4)
12698-N | DOT-E 12698 | Integrated Environmental Services, Inc., Atlanta, GA | 49 CFR 173.115(a)(b), 173.304(a), 173.34(d)(e) | To authorize the manufacture, mark, sale and use of non-DOT specification full open head steel/stainless steel salvage cylinders as an overpack in transporting damaged or leaking gas cylinders containing Class 2 material. (modes 1, 3, 4)
12702-N | DOT-E 12702 | Los Crespos Cylinders, Anasco, PR | 49 CFR 172.203(a), 172.301(c), 173.34(1) subparagraphs 1, 2, and 3 | To authorize the repair and rebuild of DOT-4B series cylinders for use in transporting hazardous materials as presently authorized. (modes 1, 2, 3)
12708-N | DOT-E 12708 | Ameristar Air Cargo, Inc., Dallas, TX | 49 CFR 173.62 | To authorize the transportation in commerce of certain Division 1.1, 1.2, 1.3 and 1.4 explosives which are forbidden or exceed quantities authorized for transportation by cargo aircraft. (mode 4)
12714-N | DOT-E 12714 | Scientific Cylinder Corporation, Englewood, CO | 49 CFR 173.302(c)(2), (4) & (5), 173.34(c)(2), (e)(3), (e)(4) | To authorize the transportation in commerce of certain cylinders which have been alternatively ultrasonically retested for use in transporting Division 2.1, 2.2, and 2.3 materials. (modes 1, 2, 3, 4)
12719-N | DOT-E 12719 | Bechtel Jacobs Company LLC, Oak Ridge, TN | 49 CFR 173.211, 173.244 | To authorize the transportation in commerce of bulk and non-bulk aluminum containers used in transporting sodium, Division 4.3, (mode 1)
12720-N | DOT-E 12720 | American Honda Motor Company, Torrance, CA | 49 CFR 176.76(a)(4) | To authorize the transportation in commerce of electrolyte batteries in specially designed packagings, overpacked in a motor vehicle not subject to the requirements of the HMR, without securing the overpack to the floor of the intermodal freight container or trailer. (modes 1, 2, 3, 4)
12726-N | DOT-E 12726 | Air Transport Association, Washington, DC | 49 CFR 173.304(a)(1), 173.305, 173.309, 173.34(e), 175.3 | To authorize the transportation in commerce of fire extinguishers to be shipped with an alternative proper shipping name as specified in several exemptions. (modes 1, 2, 4, 5)
12727-N | DOT-E 12727 | Tri-West Packaging, Corona, CA | 49 CFR 173.12(b)(2)(i) | To authorize the manufacture, marking and sale of certain UN 11HH2 intermediate bulk containers for use as the outer packaging for lab pack applications. (mode 1)
12728-N | DOT-E 12728 | Eagle-Picher Technologies, LLC, Joplin, MO | 49 CFR 173.3, 173.302(a), 173.34(d) | To authorize the transportation in commerce of certain non-DOT specification pressure vessels containing compressed hydrogen, which are a component part of a nickel-hydrogen battery. (modes 1, 4)
12744-N | DOT-E 12744 | Alcoa Inc. of Pittsburgh, Pittsburgh, PA | 49 CFR 171-180 | To authorize the transportation in commerce of electric storage batteries containing electrolyte or corrosive battery fluid when transported in a motor vehicle containing no hazardous materials other than materials of trade (MOTs) as essentially unregulated. (mode 1)
12745-N | DOT-E 12745 | BioLab Inc., Decatur, GA | 49 CFR 173.24(g)(4) | To authorize the transportation in commerce of Class 8 material in vented intermediate bulk containers (IBC). (modes 1, 2, 3)
12748-N | DOT-E 12748 | Lockheed Martin Missiles & Space Co., Santa Cruz, CA | 49 CFR 178.601(a) | To authorize the transportation in commerce of alternative, non-POP tested containers for use in transporting small explosive articles for military and commercial spacecraft and missiles. (mode 1)
12749-N | DOT-E 12749 | Questar, North Canton, OH | 49 CFR 173.12(b)(2)(i) | To authorize the manufacture, marking, sale and use of certain UN 11G fiberboard intermediate bulk containers (IBC) for use as the outer packaging for lab pack applications. (mode 1)
12750-N | DOT-E 12750 | Questar, North Canton, OH | 49 CFR 173.12(b)(2)(i) | To authorize the manufacture, marking, sale and use of UN 13H4 Flexible Intermediate Bulk Containers (IBC) for use as outer packaging for lab pack application for use in transporting hazardous wastes. (mode 1)
12756-N | DOT-E 12756 | Department of Energy Oak Ridge, TN | 49 CFR 173 & 178 | To authorize the one-time transportation in commerce of certain explosive materials that exceed their shelf life, are no longer need or are obsolete in specially designed containers and trailers. (mode 1)
12762-N | DOT-E 12762 | Pro-Virus Inc., Gaithersburg, MD | 49 CFR 172.203, 172.301(c), 172.303(a), 172.401(a)(1)(2) | To authorize the transportation in commerce of non-bulk pre-packed combination packagings containing various classes of hazardous materials between facilities to be transported as essentially unregulated without proper shipping papers. (mode 1)
12768-N | DOT-E 12768 | BOC Gases, Murray Hill, NJ | 49 CFR 173.31(a), 179.13 | To authorize the transportation in commerce of tank cars, containing carbon dioxide, refrigerated liquid, Division 2.2 with a maximum gross weight on rails of 286,000 pounds. (mode 2)
12779-N | DOT-E 12779 | Nippon Sanso U.S.A., Inc., Parsippany, NJ | 49 CFR 173.318 | To authorize the transportation in commerce of one non-DOT specification vacuum insulated portable tank for use in transporting helium, refrigerated liquid, Division 2.2 (modes 1, 3)
12782-N | DOT-E 12782 | Air Liquide American Corporation, Houston, TX | 49 CFR 173.301(g)(1) | To authorize the transportation in commerce of non-DOT specification cylinders equipped with plastic protection caps for use in transporting Division 2.1 and 2.2 compressed gases. (mode 1)
12790-N | DOT-E 12790 | Environmental Management, Inc. (EMI), Guthrie, OK | 49 CFR 173.201, 173.202, 173.203, 173.302, 173.304, 173.309, 173.34 | To authorize the transportation in commerce of non-DOT specification full open head, steel salvage cylinders for use in transporting damaged, leaking or improperly filled cylinders containing various hazardous materials. (mode 1)
12795-N | DOT-E 12795 | Scientific Cylinder Corp., Englewood, CO | 49 CFR (e)(8), (e)(15)(vi) and (e)(19), 173.34(e)(1), (e)(3), (e)(4), (e)(5), (e)(6), (e)(7) | To authorize the transportation in commerce of DOT-3A cylinders manufactured from 6061 alloy which are 100% ultrasonic wall thickness inspected in lieu of the internal visual test. (modes 1, 2, 3, 4)
12819-N | DOT-E 12819 | BBI-Biotech Research Laboratories, Inc., Gaithersburg, MD | 49 CFR 173.196, 178.609 | To authorize the transportation in commerce of certain infectious substances in specially designed packaging. (mode 1)
12825-N | DOT-E 12825 | United States Marine Safety Association, Colorado Springs, CO | 49 CFR 173.301(i) | To authorize the transportation of foreign life rafts equipped with non-DOT specification cylinders. (mode 1)
12826-N | DOT-E 12826 | Environmental Packaging Technologies, Inc., Atkinson, NH | 49 CFR 173.12(b)(2)(i) | To authorize the manufacture, marking, sale and use of certain UN 11G intermediate bulk containers (cubic yard boxes) for use as the outer packaging for paint and paint related material. (mode 1)
12827-N | DOT-E 12827 | Department of Energy (DOE), Washington, DC | 49 CFR 172.101, 173.56 | To authorize the transportation in commerce of limited quantities of forbidden explosives by exclusive use motor vehicle in specially designed bomb proof trailers. (mode 1)
12838-N | DOT-E 12838 | City Machine & Welding, Inc., Amarillo, TX | 49 CFR 173.302, 173.34 | To authorize the transportation in commerce of certain DOT Specification 3AA, 3AAX and 3T cylinders which have been alternatively ultrasonically retested. (modes 1, 2, 3)
EE 2709-M | DOT-E 2709 | Copperhead Chemical, Company, Inc., Tamaqua, PA | 49 CFR 173.24(c), 173.54(e), 177.821, 177.834(l)(1), 177.835(m) | To authorize the modification of the exemption to permit an alternative pallet design for transporting the explosives in UN 6HA1 drums. (modes 1, 3)
Emergency Exemptions
EE 8915-M | DOT-E 8915 | Air Products and, Chemicals, Inc., Allentown, PA | 49 CFR 173.301(d), 173.302(a)(3), 173.302(a)(5) | To modify the current exemption by adding the proper shipping name Compressed Gas, n.o.s., 2.2, UN1956 (contains chlorine) (modes 1, 3)
EE 10826-M | DOT-E 10826 | Stericycle, Inc., Lake Forest, IL | 49 CFR 173.197, 259.30, CFR 172.101 | To modify language in the exemption to make criteria consistent with other exemptions authorizing shipment of medical waste in bulk. (modes 1, 2)
EE 11323-M | DOT-E 11323 | Renaissance Industries, Inc., Sharpsville, PA | 49 CFR 173.302(a)(4), 173.304(a)(1), 175.3, 178.65-14(b)(i), 178.65-5(a)(4), 178.65-6 | To renew and authorize an additional steel designation for the manufacture of certain cylinders similar to DOT specification 39. (modes 1, 2, 3, 4, 5)
EE 11328-M | DOT-E 11328 | Alaska-Pacific Powder Company, Olympia, WA | 49 CFR 176.76(a)(8) | To modify the exemption to authorize the use of smaller size bags. (mode 3)
EE 11753-M | DOT-E 11753 | Ashland Inc., Columbus, OH |  | To modify exemption to authorize certain DOT Specification drums as additional containers for shipment of Ammonia solutions in temperature controlled vehicles. (mode 1)
EE 12068-M | DOT-E 12068 | United States Sea Launch GP, L.L.C., Long Beach, CA | 49 CFR 173.56, 173.60 | To authorize dimethylhydrazine unsymmetrical as part of payload involving Sea Launch vehicle. (modes 1, 3, 4)
EE 12143-M | DOT-E 12143 | Suburban Propane, Anchorage, AK | 49 CFR 172.101, 176.83(b) | To authorize an addition location Alaska for delivery of Propane to remote areas. (mode 5)
EE 12143-M | DOT-E 12143 | Suburban Propane, Anchorage, AK | 49 CFR 172.101, 176.83(b) | To authorize an additional location in Alaska for delivery of Propane to remote areas. (mode 5)
EE 12183-M | DOT-E 12183 | Connecticut Yankee Atomic Power Co., East Hampton, CT | 49 CFR 173.403, 173.427(b)(1), 173.427(f) | To modify exemption to provide for an alternate route for shipment of 4 stem generator subassemblies containing radioactive materials. (modes 1, 3)
EE 12474-M | DOT-E 12474 | Dept of Defense (MTMC), Alexandria, VA | 49 CFR 171.12, 172.204, 173.301 (i) & (j) | Modified exemption to provide for an additional shipment of high pressure gas cylinders used for Japan Ground Self Defense exercises. (mode 1)
EE 12494-M | DOT-E 12494 | American Reclamation Group LLC, Anchorage, AK | 49 CFR 172.101 (col. 9) | Modified exemption to clarify provisions relating to shipment of Division 2.1 and 2.3 materials by air. (mode 4)
EE 12528-M | DOT-E 12528 | Permages, Lake Stevens, WA | 49 CFR 178.245-4(e), 450.3(a)(2) | Extended exemption to provide for an additional shipment of propane to remote areas in Alaska. (modes 1, 3)
EE 12557-N | DOT-E 12557 | Global Container Group, Inc., Baton Rouge, LA | 49 CFR 178.245 | Request for an emergency exemption to authorize the construction of a DOT type 51 portable tank with certain deviation from 49 CFR 178 and the 1998 edition of the ASME Code. (mode 1)
EE 12576-N | DOT-E 12576 | Baron USA, Inc., Cookesville, TN | 49 CFR 178.337-1(b) | Request for an emergency exemption to permit a lower design pressure of a cargo tank. (mode 1)
EE 12590-N | DOT-E 12590 | US Airways, Pittsburgh, PA | 49 CFR 173.159 | To authorize the transportation in commerce of aircraft batteries in specially designed containers. (mode 1)
EE 12594-N | DOT-E 12594 | Fire Spec Systems, Carmel, CA | 49 CFR 173.202 | Request for an emergency exemption to use a non-DOT spec. container for the transportation of gasoline. (mode 1)
EE 12606-N | DOT-E 12606 | Toyota Motor Sales, Torrance, CA | 49 CFR 171.12(b)(19) and 172.203(a) | Request for an emergency exemption to permit the transportation in commerce of certain air bag modules and seat-belt pretensioners without the “EX” number appearing on the shipping paper. (mode 1)
EE 12606-M | DOT-E 12606 | Toyota Motor Sales, Torrance, CA | 49 CFR 171.12(b)(19) and 172.203(a) | Request for extension of the expiration date of an emergency exemption to complete shipment of air bag modules and seat-belt pretensioners without the “EX” number appearing on the shipping paper. (mode 1)
EE 12615-N | DOT-E 12615 | JCI Jones Chemicals, Inc., Charlotte, NC | 49 CFR 173.34(d) | Request for an emergency exemption to transport a leaking ton cylinder that has been fitted with an emergency A kit to prevent leakage during transportation. (mode 1)
EE 12616-N | DOT-E 12616 | DPC Enterprises, Houston, TX | 49 CFR 173.34(d) | Request for emergency exemption to transport a leaking ton container that has been fitted with an emergency A kit to prevent leakage during transportation. (mode 1)
EE 12617-N | DOT-E 12617 | Honeywell, Morristown, NJ | 49 CFR 174.50 | Request for emergency exemption to transport 9 multi-unit tank car tanks that no longer meet the minimum thickness requirements for tank specifications 106a500X and 110A500W. (mode 2)
EE 12618-N | DOT-E 12618 | JCI Jones Chemicals, Torrance, CA | 49 CFR 173.24(b), 179.300-12(b), 179.300-13(a), 179.300-14 | Request for emergency exemption to transport a leaking tank car tank that has been fitted with an emergency B kit to prevent leakage. (mode 1)
EE 12619-N | DOT-E 12619 | JCI Jones Chemicals, Charlotte, NC | 49 CFR 173.24(b) | Request for emergency exemption to transport a leaking ton container fitted with a B kit to prevent leakage. (mode 1)
EE 12620-N | DOT-E 12620 | Celanese LTD, Dallas, TX | 49 CFR 172.102(c)(3) B-4 & B-14 | To authorize the transportation in commerce of a MC 330 cargo tank containing 6.1, Zone B, Secondary hazard 3 material without bottom outlet valves. (mode 1)
EE 12621-N | DOT-E 12621 | JCI Jones Chemicals, Inc., Jacksonville, FL | 49 CFR 173.34(d) | Request for emergency exemption for the one time transportation of a leaking ton cylinder that has been equipped with an A kit to prevent leakage during transportation. (mode 1)
EE 12628-N | DOT-E 12628 | Arbel Fauvet Rail, 59500 Douai, France | 49 CFR 178.245-1(b) | Request for an emergency exemption for the use of DOT spec 51 tank containers that have been designed, constructed and stamped “U” in accordance with Section VIII Division 1 of the ASME Code Edition 1998. (mode 1)
EE 12628-M | DOT-E 12628 | Arbel Fauvet Rail (AFR), Douai, France | 49 CFR 178.245-1(b) | To request a short extension of an emergency exemption authorizing use of a DOT Spect 51 tank container built in accordance with Section VIII of the ASME Code. (mode 1)
EE 12633-N | DOT-E 12633 | Isolair Helicopter Systems, Troutdale, OR | 49 CFR 173.202 | Request for an emergency exemption for the use of a non-bulk package for the use in an integral component of a flame application system (heli-torch). (mode 1)
EE 12635-N | DOT-E 12635 | Allied Universal, Brunswick, GA | 49 CFR 173.24(b), 179.300-12(b), 179.300-13(a), 179.300-14 | To authorize the emergency transportation of a one-ton container (DOT specification 106A500X) equipped with a B kit for use in transporting sulfur dioxide. (mode 2)
EE 12636-N | DOT-E 12636 | HCI Worth Chemical Company, Chattanooga, TN | 49 CFR 173.24(b), 179.300-12(b), 179.300-13(a) 179.300-14 | Request for an emergency exemption to transport a leaking tank car tank fitted with an emergency B kit to prevent leakage during transportation. (mode 1)
EE 12637-N | DOT-E 12637 | Island Gases Limited, Christiansted, St. Croix, U.S.V.I | 49 CFR 173.320 | Request for emergency exemption to transport liquid oxygen and nitrogen in non-DOT specification tanks. (mode 3)
EE 12638-N | DOT-E 12638 | Stolt Nielsen, Inc., Houston, TX | 49 CFR 173.32(C) | Request for an emergency exemption to use an IM portable tank that was inadvertently loaded despite the tank having passed the periodic retest date. The tank is loaded with a flammable liquid. (mode 1)
EE 12639-N | DOT-E 12639 | Kuehne Chemical Co., South Kearney, NJ | 49 CFR 173.34 | To transport leaking ton cylinder containing chlorine from Standish, ME to South Kearny, NJ for examination and/or repair. (mode 1)
EE 12640-N | DOT-E 12640 | Apperson Chemicals Inc., Albany, GA | 49 CFR 173.34 | Request for an emergency exemption to transport a leaking ton container that has been fitted with an A-kit to prevent leakage. (mode 1)
EE 12641-N | DOT-E 12641 | Bristol Bay Contractors, Inc., King Salmon, AL | 49 CFR 172.101, col. 9B | Request for an emergency exemption to transport propane by air in quantities that exceed the limitations specified in the HMR. (mode 4)
EE 12641-M | DOT-E 12641 | Bristol Bay Contractors, Inc., King Salmon, AK | 49 CFR 172.101, col. 9B | To modify emergency exemption to provide for an additional carrier to transport DOT Specification portable tanks, containing propane, which exceeds quantity limitations authorized for shipment by air. (mode 4)
EE 12642-M | DOT-E 12642 | JCI Jones Chemicals Inc., Jacksonville, FL | 49 CFR 173.34(d) | To return leaking chlorine cylinder (DOT3A480) equipped with an emergency A kit to prevent leakage during transportation. (mode 1)
EE 12643-N | DOT-E 12643 | TRW Space and Electronics Group, Redondo Beach, CA | 49 CFR 173.302 and 175.3 | Request for an emergency exemption to transport helium in a non-DOT specification container called a pulse tube cooler. (modes 1, 4, 5)
EE 12643-M | DOT-E 12643 | TRW Space and Electronics Group, Redondo Beach, CA | 49 CFR 173.302 and 175.3 | To modify referenced drawing in exemption authorizing shipment of helium in a non-DOT specification container. (modes 1, 2, 5)
EE 12653-N | DOT-E 12653 | JCI Jones Chemicals, Jacksonville, FL | 49 CFR 173.24(d) | Request for an emergency exemption to transport a leaking ton container that has been fitted with an emergency A kit to prevent leakage. (mode 1)
EE 12654-N | DOT-E 12654 | JCI Jones Chemicals, Inc., Charlotte, NC | 49 CFR 173.34(d) | Request for an emergency exemption to transport a leaking ton container that has been fitted with an emergency A kit to prevent leakage. (mode 1)
EE 12655-N | DOT-E 12655 | JCI Jones Chemicals, Milford, VA | 49 CFR 173.34 | Request for an emergency exemption to transport a leaking cylinder that has been fitted with an A kit to prevent leakage during transportation. (mode 1)
EE 12659-N | DOT-E 12659 | Atofina Chemicals, Inc., Philadelphia, PA | 49 CFR 173.227 | Request for an emergency exemption for the one-time shipment of ally methacylate in non-DOT
EE 12660-N | DOT-E 12660 | BP Chemicals, Inc., Naperville, IL | 49 CFR 172.301(a), 172.322(a)(2), 172.400(a), 172.504(a) | To apply for one time transportation of two freight containers from Terminal Island, Los Angeles to Long Beach to have the drums properly marked and labelled. (mode 1)
EE 12662-N | DOT-E 12662 | T.J. Egan Waste Systems, Bloomfield, NJ | 49 CFR 172.101 column 8(c), 172.302(c) | Request for a one-time shipment of regulated medical waste in an open-top bulk container. (mode 1)
EE 12662-M | DOT-E 12662 | T.J. Egan Waste Systems, Bloomfield, NJ | 49 CFR 172.101 column 8(c), 172.302(c) | To authorize an additional bulk container for shipment of regulated medical waste. (mode 1)
EE 12663-N | DOT-E 12663 | Skolnik Industries, Chicago, IL | 49 CFR 172.203(a), 172.301(c), 178.3(c), 178.503(a) | Request for an emergency exemption to use steel drums that are not properly marked with the first line marks indicating the original performance of the drum and an indication of the nominal thickness of the metal used in fabrication. (modes 1, 2, 3, 4)
EE 12664-N | DOT-E 12664 | Myers Container Corporation, Huntington Park, CA | 49 CFR 172.203, 172.301, 178.3(c), 178.503(a) | Request for an emergency exemption to manufacture, mark and sell, UN drums for the transportation of certain materials. The drums do not conform to the marking provisions in part 178. (modes 1, 2, 3, 4)
EE 12665-N | DOT-E 12665 | Packaging Specialties, Inc., Medina, OH | 49 CFR 172.203(a), 172.301(c), 178.3(c), 178.503(a) | Request for an emergency exemption to manufacture, mark and sale UN drums that do not conform to the marking provisions of Part 178. (modes 1, 2, 3, 4)
EE 12666-N | DOT-E 12666 | Gourmet Gas Plus, Boca Raton, FL | 49 CFR 172.400(a)(1) | Request for an emergency exemption to transport a bulk container, filled with compressed gas, that has the incorrect subsidiary hazard label. (mode 1)
EE 12667-N | DOT-E 12667 | JCI Jones Chemicals, Inc., Jacksonville, FL | 49 CFR 173.34(d) | Request for an emergency exemption for the one time transportation of a leaking ton cylinder that has been fitted with an A kit to prevent leakage during transportation. (mode 1)
EE 12673-N | DOT-E 12673 | Coors Brewing Company, Golden, CO | 49 CFR 172.203, 172.301(c), 179.6, 180.513(a) | Request for an emergency exemption to authorize the use of certain DOT spec tank cars which have welded repairs that are not as specified in the HMR. (mode 2)
EE 12676-N | DOT-E 12676 | Environmental Management, Inc., Guthrie, OK | 49 CFR 173.201, 173.202, 173,203, 173.302, 173.304, 173.309, 173.34 | To authorize the transportation in commerce of non-DOT specification full open head, steel salvage cylinder for use in transporting damaged or leaking cylinders containing certain hazardous materials. (modes 1, 3)
EE 12678-N | DOT-E 12678 | Cominco American Inc., Spokane, WA | 49 CFR 173.315 | Request for a one-time emergency exemption to remove one sulphur dioxide trailer from its present location to another location where it can be purged and prepared to be taken out of service. (mode 1)
EE 12681-N | DOT-E 12681 | JCI Jones Chemicals, Charlotte, NC | 49 CFR 173.24(b), 179.300-12(b), 179.300-13(a), 179.300-14 | Request for a one-time exemption to transport a leaking tank that is fitted with an A kit to prevent leakage during transportation. (mode 1)
EE 12683-N | DOT-E 12683 | JCI Jones Chemicals, Inc., Beech Grove, IN | 49 CFR 173.24(b), 179.300-12(b), 179.300-13(a), 179.300-14 | Request for a one-time exemption to transport a leaking tank car tank that is fitted with a B kit to prevent leakage during transportation. (mode 1)
EE 12684-N | DOT-E 12684 | JCI Jones Chemicals Inc., Caledonia, NY | 49 CFR 179.24(b), 179.300-12(b), 179.300-13(a), 179.300-14 | Request for a one-time exemption to transport a leaking tank car tank that is fitted with a B kit to prevent leakage during transportation. (mode 1)
EE 12687-N | DOT-E 12687 | JCI Jones Chemical Co., Merrimack, NH | 49 CFR 173.24(b), 179.300-12(b), 179.300-13(a), 179.300-14 | Request for a one-time exemption to transport a leaking tank car tank that is fitted with a B kit to prevent leakage during transportation. (mode 1)
EE 12688-N | DOT-E 12688 | Brenntag West, Inc., Santa Fe Springs, CA | 49 CFR 172.203(a), 172.203(a), 173.158(b)(1)(i) | Request for an emergency exemption for the use of certain drums that do not meet the minimum thickness requirements for use in the transportation of nitric acid. (mode 1)
EE 12689-N | DOT-E 12689 | JCI Jones Chemicals, Jacksonville, FL | 49 CFR 173.34 | Request for an emergency exemption to transport a leaking ton container that has been equipped with an emergency A kit to prevent leaking during transport. (mode 1)
EE 12693-N | DOT-E 12693 | Community Blood Centers of South Florida, Lauderhill, FL | 49 CFR 173.416(a) | Request for an emergency exemption to relocate a blood product irradiator that has not been approved by the Nuclear Regulatory Commission as required by 49 CFR 173.416(a). (mode 1)
EE 12697-N | DOT-E 12697 | JCI Jones Chemicals, Charlotte, NC | 49 CFR 173.34(d) | Request for emergency exemption to transport a leaking ton container that has been equipped with an emergency A kit to prevent leakage. (mode 1)
EE 12699-N | DOT-E 12699 | Catlina Cylinders, Hampton, VA | 49 CFR 178.35(f), 178.65(i) | To allow marking of DOT 39 cylinders on bottom. (mode 1)
EE 12700-N | DOT-E 12700 | Kuehne Chemical Co., South Kearny, NJ | 49 CFR 173.34(d) | Request for an emergency exemption to transport a leaking cylinder that has been equipped with an A kit to prevent leakage. (mode 1)
EE 12704-N | DOT-E 12704 | Harcros Chemicals, Inc., Kansas City, KS | 49 CFR 173.34(d) | Request for an emergency exemption to transport a leaking cylinder that has been fitted with an emergency A kit to prevent leaking during transportation. (mode 1)
EE 12705-N | DOT-E 12705 | Brenntag Mid-South, Inc., Henderson, KY | 49 CFR 172.203(a), 173.158(b)(1)(i) | To allow drums with thickness <1.5 mm for transportation of nitric acid (mode 1)
EE 12707--N | DOT-E 12707 | DPC Enterprises, Houston, TX | 49 CFR 173.34(d) | Request for an emergency exemption to transport a leaking ton cylinder that has been fitted with an A kit to prevent leakage during transportation. (mode 1)
EE 12709-N | DOT-E 12709 | DPC Industries, Inc., Houston, TX | 49 CFR 173.34(d) | Request for an emergency exemption to transport a leaking ton cylinder that has been fitted with an A kit to prevent leakage during transportation. (mode 1)
EE 12710-N | DOT-E 12710 | JCI Jones Chemicals, Inc., Milford, VA | 49 CFR 173.34(d) | Request for an emergency exemption to permit the transportation of leaking ton cylinder that has been fitted with an emergency A kit to prevent leakage during transportation. (mode 1)
EE 12711-N | DOT-E 12711 | Crowley Marine Services, Kotzebue, AK | 49 CFR 172.101 column 9B | To transport 3,000 gallons of propane from Nome to Kotzebue, Alaska for residents in DOT spec 51 portable tanks on board cargo aircrafts. (mode 4)
EE 12711-M | DOT-E 12711 | Crowley Maritime Services, Kotzebue, AK | 49 CFR 172.101 column 9B | To extend emergency exemption for 60 days to complete shipment of propane in DOT spec 51 portable tanks by cargo air. (mode 4)
EE 12712-N | DOT-E 12712 | T.J. Egan Waste Systems, Bloomfield, NJ | 49 CFR 172.101 column 8(c), 172.302(c) | Request for an emergency exemption to transport co-mingled requested and solid med. waste in roll-off containers. (mode 1)
EE 12713-N | DOT-E 12713 | Delta Air Lines, Inc., Atlanta, GA | 49 CFR 172.301(c), 173.219(b)(1) | To authorize the transportation of life saving appliances (emergency exit slides) containing a compressed gas cylinder that is filled in excess of its marked service pressure. (mode 1)
EE 12713-M | DOT-E 12713 | Delta Air Lines, Atlanta, GA | 49 CFR 172.301(c), 173.219(b)(1) | To extend emergency exemption to authorize shipment of emergency exit slides containing a compressed gas cylinder that is filled in excess of its marked service pressure. (mode 1)
EE 12723-N | DOT-E 12723 | Air Cruisers Company, Belmar, NJ | 49 CFR 173.219(b)(1), 173.302(a), 173.302(a) | To authorize the transportation in commerce of life saving appliances containing a compressed gas cylinder that is filled in excess of its marked service pressure. (mode 1)
EE 12723-M | DOT-E 12723 | Air Cruisers Company, Belmar, NJ | 49 CFR 173.219(b)(1), 173.302(a), 173.302(a) | To extend emergency exemption to authorize the transportation of life saving appliances containing a compressed gas cylinder that is filled in excess of its marked service pressure. (mode 1)
EE 12725-N | DOT-E 12725 | Dow Chemical Company, Midland, MI | 49 CFR 173.32c(j) | Request for an emergency exemption to authorize the movement of an IMO 101 portable tank loaded with resin solution. The tank does not conform with the filling density requirement of the HMR. (mode 2)
EE 12732-N | DOT-E 12732 | Alexander Chemical Corp., LaPorte, IN | 49 CFR 173.34(d) | Request for an emergency exemption to transport a leaking ton cylinder that has been fitted with an A kit to prevent leaking during transportation. (mode 1)
EE 12733-N | DOT-E 12733 | JCI Jones Chemicals, Charlotte, NC | 49 CFR 173.24(b) | Request for an emergency exemption to transport a leaking ton container that has been fitted with an emergency B kit to prevent leakage during transportation. (mode 1)
EE 12734-N | DOT-E 12734 | DuPont She Excellence Center, Wilmingtonn, DE | 49 CFR 173.24(b) | Request for an emergency exemption to transport a leaking tank car tank that has been fitted with a B kit to prevent leaking during transportation. (mode 1)
EE 12735-N | DOT-E 12735 | Collbri Group, Providence, RI | 49 CFR 172.102(c)(5), 172.301(c), 172.406(a)(1)(ii) | To allow deviations from marking and labelling requirements. (mode 1)
EE 12736-N | DOT-E 12736 | JCI Jones Chemicals Inc., Torrance, CA | 49 CFR 173.24(b), 179.300-12(b), 179.300-13(a), 179.300-14 | Request for an emergency exemption to transport a leaking ton container that has been fitted with a B kit to prevent leaking during transportation. (mode 1)
EE 12737-N | DOT-E 12737 | DXI Industries Inc., Houston, TX | 49 CFR 173.24(b), 179.300-12(b), 179.300-13(a), 179.300-14 | Request for an emergency exemption to transport a leaking ton container that has been fitted with a B kit to prevent leaking during transportation. (mode 1)
EE 12738-N | DOT-E 12738 | Harcros Chemicals, Kansas City, KS | 49 CFR 173.24(b), 179.300-12(b), 179.300-13(a), 179.300-14 | Request for an emergency exemption to transport a leaking ton container that has been fitted with a B kit to prevent leaking during transportation. (mode 1)
EE 12739-N | DOT-E 12738 | Alexander Chemical, LaPorte, IN | 49 CFR 173.34(d) | Request for an emergency exemption to transport a leaking ton container that has been fitted with an A kit to prevent leaking during transportation. (mode 1)
EE 12740-N | DOT-E 12740 | T.J. Egan Waste Systems, Bloomfield, NJ | 49 CFR 172.101 column 8(c), 172,302(c) | Request for an emergency exemption to permit the transport of co-mingled regulated and solid waste in bulk containers. (mode 1)
EE 12742-N | DOT-E 12742 | JCI Jones Chemicals, Inc., Milford, VA | 49 CFR 173.34(d) | Request for an emergency exemption to transport a leaking ton container that has been fitted with an A-kit to prevent leaking during transportation. (mode 1)
EE 12754-N | DOT-E 12754 | J.J. Keller & Associates, Inc., Neenah, WI | 49 CFR 172.200-172.205 | Request for an emergency exemption to offer packages of a non-hazardous material, represented as a hazardous material, for purposes of conducting compliance testing of American Airlines' hazmat handling procedures. (modes 1, 4, 5)
EE 12763-N | DOT-E 12763 | Harcros Chemicals, Inc., Kansas City, KS | 49 CFR 173.34(d) | Request for an emergency exemption to authorize the transportation in commerce of a leaking ton container fitted with an A kit to prevent leakage. (mode 1)
EE 12764-N | DOT-E 12764 | Our Lady of Mercy Medical Center, Bronx, NY | 49 CFR 173.416(a) | Request for an emergency exemption to transport a blood product irradiator in a non-DOT spec. container. (mode 1)
EE 12765-N | DOT-E 12765 | Alexander Chemical Corporation, LaPorte, IN | 49 CFR 173.24(b), 179.300-12(b), 179.300-13(a), 179.300-14 | Request for an emergency exemption to transport a leaking ton container that has been fitted with an emergency B kit. (mode 1)
EE 12766-N | DOT-E 12766 | JCI Jones Chemicals Inc., Milford, VA | 49 CFR 173.34(d) | Request for an emergency exemption to transport a leaking ton container that has been fitted with an emergency A kit. (mode 1)
EE 12767-N | DOT-E 12767 | Harcros Chemicals, Kansas City, KS | 49 CFR 173.34(d) | Request for an emergency exemption to transport a leaking ton container that has been fitted with an emergency A kit to prevent leaking during transportation. (mode 1)
EE 12769-N | DOT-E 12769 | Harcros Chemicals Inc., Kansas City, KS | 49 CFR 173.34(d) | Request for an emergency exemption to transport a leaking ton container that has been fitted with an emergency A kit to prevent leaking during transportation. (mode 1)
EE 12771-N | DOT-E 12771 | Cytec Industries, Inc., West Paterson, NJ | 49 CFR 173.34(d) | To continue the use of DOT specification cylinders without pressure devices for liquefied gas, toxic, n.o.s. (mode 1)
EE 12773-N | DOT-E 12773 | Vopak Bunola, Bunola, PA | 49 CFR 173.34(d) | Request for an emergency exemption to transport a leaking ton cylinder that has been fitted with an emergency A kit to prevent leaking during transportation. (mode 1)
EE 12774-N | DOT-E 12774 | Allied Universal Corp., Miami, FL | 49 CFR 173.24(b), 179.300-12, 179.300-13(a), 179.300-14 | Request for an emergency exemption to transport a leaking tank car tank that has been fitted with an emergency B kit to prevent leakage during transportation. (mode 1)
EE 12775-N | DOT-E 12775 | Harcros Chemicals, Inc., Kansas City, KS | 49 CFR 173.34(d) | Request for an emergency exemption to transport a leaking tank car tank that has been fitted with an emergency B kit to prevent leakage during transportation. (mode 1)
EE 12777-N | DOT-E 12777 | JCI Jones Chemicals, Inc., Jacksonville, FL | 49 CFR 173.34(d) | Request for an emergency exemption to permit the transportation of a leaking ton container that has been fitted with an A kit to prevent leaking during transportation. (mode 1)
EE 12787-N | DOT-E 12787 | Harcros Chemicals, Inc., Kansas City, KS | 49 CFR 173.24(b), 179.300-12(b), 179.300-13(a), 179.300-14 | Request for an emergency exemption for a leaking ton container that has been fitted with a B kit to prevent leakage during transportation. (mode 1)
EE 12788-N | DOT-E 12788 | Harcros Chemicals, Inc., Kansas City, KS | 49 CFR 173.24(b), 179.300-12(b), 179.300-13(a), 179.300-14 | For one time transportation of leaking container, applied Chlorine Institute B-kit, from Mobile, AL to Harcros facility in St. Gabriel, LA. (mode 1)
EE 12793-N | DOT-E 12793 | Harcros Chemicals Inc., Kansas City, KS | 49 CFR 173.24(b), 179.300-12(b), 179.300-13(a), 179.300-14 | Request for an emergency exemption for a leaking ton container that has been fitted with a B kit to prevent leakage during transportation. (mode 1)
EE 12796-N | DOT-E 12796 | Monson Companies, South Portland, ME | 49 CFR 173.24(b), 179.300-12(b), 179.300-13(a), 179.300-14 | Request for an emergency exemption to transport a leaking ton cylinder that has been fitted with a B kit to prevent leaking during transportation. (mode 1)
EE 12803-N | DOT-E 12803 | Hawkins, Inc., Minneapolis, MN | 49 CFR 173.34(d) | Request for an emergency exemption to transport a leaking ton container that has been fitted with an A kit to prevent leakage. (mode 1)
EE 12804-N | DOT-E 12804 | Air Products and Chemicals, Allentown, PA | 49 CFR 173.202 | Request for an emergency exemption to transport a leaking UN1A1 drum containing silicn tetrachloride. (mode 1)
EE 12806-N | DOT-E 12806 | Allied Universal Corp., Miami, FL | 49 CFR 173.24(b), 179.300-12(b), 179.300-13(a), 179.300-14 | Request for an emergency exemption to transport a leaking tank car tank that has been fitted with a B kit to prevent leaking during transportation. (mode 1)
EE 12807-N | DOT-E 12807 | Clariant Corporation, Somerville, NJ | 49 CFR 178.813 | Request for an emergency exemption to transport a class 3 material in an intermediate bulk container (IBC) that has not been leak-proof tested within the required amount of time. (mode 1)
EE 12807-M | DOT-E 12807 | Clariant Corporation, Charlotte, NC | 49 CFR 178.813 | Request for an emergency exemption to transport a class 3 material in an intermediate bulk container (IBC) that has not been leak-proof tested within the required amount of time. (mode 1)
EE 12808-N | DOT-E 12808 | Linco-Electromatic Measurement, Inc., Kilgore, TX | 49 CFR 173.120, 173.304, 173.315 | Request for an emergency exemption to transport hazardous materials in a non-DOT specification container. (mode 1)
EE 12809-N | DOT-E 12809 | Harcros Chemicals Inc., Kansas City, KS | 49 CFR 173.34(d) | Request for an emergency exemption to transport a leaking ton container that has been fitted with an A kit to prevent leaking during transportation. (mode 1)
EE 12810-N | DOT-E 12810 | Hawkins, Inc., Minneapolis, MN | 49 CFR 173.34(d) | Request for an emergency exemption to transport a leaking ton container that has been fitted with an A kit to prevent leaking during transportation. (mode 1)
EE 12811-N | DOT-E 12811 | JCI Jones Chemicals, Inc., Milford, VA | 49 CFR 173.34(d) | Request for an emergency exemption to transport a leaking ton container that has been fitted with an A kit to prevent leaking during transportation. (mode 1)
EE 12813-N | DOT-E 12813 | Harcros Chemicals Inc., Kansas City, KS | 49 CFR 173.34(d) | Request for an emergency exemption to transport a leaking ton container that has been fitted with an A kit to prevent leaking during transportation. (mode 1)
EE 12814-N | DOT-E 12814 | Kuehne Chemical Company Inc., South Kearney, NJ | 49 CFR 173.24(b), 179.300-12(b), 179.300-13(a), 179.300-14 | For one-way transportation of leaking ICC 106A500X ton container containing chlorine, applied Chlorine Institute B-kit, from Freemansburg, PA to South Kearney, NJ. (mode 1)
EE 12817-N | DOT-E 12817 | Phibro-Tech, Inc., Fort Lee, NJ | 49 CFR 172.301(c), 172.302(c), 173.28(b)(2) | To authorize the reuse of specification UN 1H1 non-removable head plastic drums, containing Class 8 materials, to EPA licensed treatment, storage or disposal facilities. (mode 1)
EE 12818-N | DOT-E 12818 | HRD Aero Systems, Inc., Valencia, CA | 49 CFR 173.302, 173.307(i) | To authorize the transportation in commerce of certain non-DOT specification cylinders used as components (fire extinguishers) in aircraft of foreign manufacture. (modes 1, 2, 3, 4, 5)
EE 12822-N | DOT-E 12822 | Harcros Chemicals, Inc., Kansas City, KS | 49 CFR 173.34(d) | Request for an emergency exemption to transport a leaking ton container that has been fitted with an emergency A kit to prevent leaking during transportation. (mode 1)
EE 12828-N | DOT-E 12828 | Harcros Chemicals, Kansas City, KS | 49 CFR 173.34(d) | Request for an emergency exemption to transport a leaking ton container that has been fitted with an emergency A kit to prevent leaking during transportation. (mode 1)
EE 12829-N | DOT-E 12829 | State of New York—Dept. of the Environment, New York, NY | 49 CFR Parts 171 through 180 | Request for an emergency exemption that authorizes the transportation of hazardous debris and infectious substances as a result of the terrorist attack on the World Trade Center. (mode 1)
EE 12830-N | DOT-E 12830 | DPC Enterprises, Inc., Houston, TX | 49 CFR 173.34(d) | Request for an emergency exemption to authorize the transportation of a ton container of chlorine that has a leak and has been fitted with an A kit to prevent leaking during transportation. (mode 1)
EE 12831-N | DOT-E 12831 | Arlington County, VA, Arlington, VA | 49 CFR Parts 171 through 180 | Request for an emergency exemption to transport hazardous materials from the Pentagon in Arlington, VA as a result of the terrorist attack. (mode 1)
EE 12832-N | DOT-E 12832 | Federal Emergency Management Agency, Washington, DC | 49 CFR Parts 100-180 | Request for an emergency exemption to ship emergency items in response to the terrorist attacks on Washington and New York. (modes 1, 5)
EE 12834-N | DOT-E 12834 | Harcros Chemicals, Inc., Kansas City, KS | 49 CFR 173.34(d) | Request for an emergency exemption to transport a leaking ton cylinder, containing chlorine, that has been fitted with an A kit to prevent leaking during transportation. (mode 1)
EE 12835-N | DOT-E 12835 | Alexander Chemical, LaPorte, IN | 49 CFR 173.34(d) | Request for an emergency exemption to transport a leaking ton cylinder, containing chlorine, that has been fitted with an A kit to prevent leaking during transportation. (mode 1)
EE 12837-N | DOT-E 12837 | JCI Jones Chemicals, Charlotte, NC | 49 CFR 173.34(d) | Request for an emergency exemption to transport a leaking ton cylinder, containing chlorine, that has been fitted with an A kit to prevent leaking during transportation. (mode 1)
EE 12847-N | DOT-E 12847 | JCI Jones Chemicals, Jacksonville, FL | 49 CFR 173.34(d) | Request for an emergency exemption to transport a leaking ton cylinder, containing chlorine, that has been fitted with an A kit to prevent leaking during transportation. (mode 1)
EE 12849-N | DOT-E 12849 | JCI Jones Chemicals, Inc., Milford, VA | 49 CFR 173.34(d) | Request for an emergency exemption to transport a leaking ton cylinder, containing chlorine, that has been fitted with an A kit to prevent leaking during transportation. (mode 1)
EE 12850-N | DOT-E 12850 | JCI Jones Chemical Company, Milford, VA | 49 CFR 173.24(b), 197.300-12(b), 179.300-13(a), 179.300-14 | Request for an emergency exemption to transport a leaking tank car tank containing chlorine, that has been fitted with an B kit to prevent leaking during transportation. (mode 1)
EE 12851-N | DOT-E 12851 | JCI Jones Chemicals, Inc., Beech Grove, IN | 49 CFR 173.24(b), 197.300-12(b), 179.300-13(a), 179.300-14 | Request for an emergency exemption for one-way transportation of a leaking container, containing sulfur dioxide, fitted with a B kit to prevent leaking during transportation. (mode 1)
EE 12852-N | DOT-E 12853 | Alexander Chemical, Laporte, IN | 49 CFR 173.24(d) | Request for an emergency exemption to transport a leaking ton cylinder, containing chlorine, that has been fitted with an A kit to prevent leaking during transportation. (mode 1)
EE 12854-N | DOT-E 12854 | Alexander Chemical Corp., LaPorte, IN | 49 CFR 173.34(d) | Request for an emergency exemption to transport a leaking ton cylinder, containing chlorine, that has been fitted with an A kit to prevent leaking during transportation. (mode 1)
EE 12855-N | DOT-E 12855 | Krafton Polymers U.S. LLC, Belpre, OH | 49 CFR 173.102 Spec Prov IB6, IP2, IP4, T3, TP1, 173.240, 173.242 | Request for an emergency exemption to transport a flammable solid, organic (polymer) in 2 steel heat exchangers from Belpre, OH to Houston, TX for cleaning and decontamination. (mode 1)
EE 12856-N | DOT-E 12856 | DPC Enterprises, Houston, TX | 49 CFR 173.34(d) | For one-time transportation of leaking container containing chlorine fitted with an A kit to prevent leakage during transportation. (mode 1)
EE 12857-N | DOT-E 12857 | Harcros Chemicals, Kansas City, KS | 49 CFR 173.34(d) | Request for an emergency exemption to transport a leaking ton cylinder, containing chlorine, that has been fitted with an A kit to prevent leakage during transportation. (mode 1)
EE 12861-N | DOT-E 12861 | Micro-Med Industries, Inc., Jacksonville, FL | 49 CFR 173.196 | Request for an emergency exemption to transport an infectious substance that is not packaged in compliance with the HMR. (mode 1)
EE 12863-N | DOT-E 12863 | Allied Universal Corp., Miami, FL | 49 CFR 173.24(b), 179.300-12(b), 179.300-13(a), 179.300|14 | Request for an emergency exemption to transport a leaking container containing S02, fitted with a B kit to prevent leakage during transportation. (mode 1)
EE 12864-N | DOT-E 12864 | U.S. Environmental Protection Agency, Philadelphia, PA | 49 CFR 172.101 in that bulk packgings are not authorized | Request for an emergency exemption to authorize the transportation of solid materials contaminated with or suspected to be contaminated with anthrax bacteria or spores in non-DOT specification bulk size outer packaging. (mode 1)
EE 12866-N | DOT-E 12866 | Delta Airlines, Atlanta, GA | 49 CFR 172.301(c), 173.219(b)(1), 173.302(a), 175.3 | Request for an emergency exemption to continue use of cylinders containing a Division 2.2 material that have inadvertently been marked with a steel stamp other than low stress stamp required by HMR (modes 4, 5)
EE 12870-N | DOT-E 12870 | Allied Universal Corp., Miami, FL | 49 CFR 173.24(b), 179.300-12(b), 179.300-13(a), 179.300-14 | Request for an emergency exemption to transport a tank car tank, containing chlorine, that has been fitted with an emergency B kit to prevent leaking during transportation. (mode 1)
EE 12875-N | DOT-E 12875 | T.J. Egan Waste Systems, Bloomfield, NJ | 49 CFR 172.101 column 8(c), 172.302(c) | Request for an emergency exemption to transport regulated medical waste in non-spec/bulk packaging. (mode 1)
EE 12881-N | DOT-E 12881 | U.S. Environmental Protection Agency, Philadelphia, PA | 49 CFR 173.197 | Request for an emergency exemption to transport items contaminated with infectious substances (anthrax) in bulk packagings. (mode 1)
EE 12882-N | DOT-E 12882 | Eagle-Picher, Joplin, MO | 49 CFR 173,3, 173.302(a), 173.34(d) | Request for an emergency exemption to transport batteries in non-DOT spec. packagings. (modes 1, 4)
EE 12883-N | DOT-E 12883 | JCI Jones Chemicals, Warwick, NY | 49 CFR 173.24(b), 179.300-12(b), 179.300-13(a), 179.300-14 | Request for an emergency exemption to transport a leaking ton container that has been fitted with a B kit to prevent leaking during transportation. (mode 1)
EE 12884-N | DOT-E 12884 | JCI Jones Chemicals, Charlotte, NC | 49 CFR 173.34(d) | Request for emergency exemption to transport a leaking cylinder that has been fitted with an A kit to prevent leakage during transportation. (mode 1)
EE 12885-N | DOT-E 12885 | U.S. Department of Agriculture, Missoula, MT | 49 CFR 173.202(c) | Request for an emergency exemption to transport gasoline in a non DOT specification steel drum with a pump installed, mounted in a helitorch frame with residual amounts of fuel, by motor vehicle. (mode 1)
EE 12886-N | DOT-E 12886 | The Society of the Plastics Industry, Inc., Washington, DC | 49 CFR 172.301(c), 172.402 | Request to transport organic peroxides that also meet the definition of class 3, Division 4.1, or Class 8, packing group III without subsidiary hazard labels. (modes 1, 2, 3, 4, 5)
EE 12887-N | DOT-E 12887 | DPC Industries, Inc., Houston, TX | 49 CFR 173.24(b), 179.300-12(b), 179.300-13(a), 179.300-14 | Request for an emergency exemption to transport a leaking container that has been fitted with a B kit to prevent leakage during transportation. (mode 1)
EE 12888-N | DOT-E 12888 | JCI Jones Chemicals Inc., Caledonia, NY | 49 CFR 173.24(b), 179.300-12(b), 179.300-13(a), 179.300-14 | Request for an emergency exemption to transport a ton container that has been fitted with a B kit to prevent leakage during transportation. (mode 1)
EE 12889-N | DOT-E 12889 | U.S. Postal Service, New York, NY | 49 CFR 172.101 column 8(c) | Request for an emergency exemption to authorize the transportation for disposal of solid materials contaminated with or suspected to be contaminated with anthrax bacteria or spores, in non-DOT specification containers. (mode 1)
EE 12890-N | DOT-E 12890 | National Broadcasting Company, Inc., Burbank, CA | 49 CFR 172.101, Table Column 8(c) | Emergency request to transport small flexible non-sharp objects including paper products and PPE that have been contaminated with anthrax in 48 or 53 foot trailers. (mode 1)
EE 12891-N | DOT-E 12891 | National Broadcasting Company, Inc., Burbank, CA | 49 CFR 172.101, Table Column 8(c) | Emergency request to transport anthrax contaminated objects such as office furniture and computers in 48 or 53 foot trailers. (mode 1)
EE 12895-N | DOT-E 12895 | Allied Universal Corp., Miami, FL | 49 CFR 173.24(b), 179.300-12(b), 179.300-13(a), 179.300-14 | Request for an emergency exemption to transport a leaking-tank car tank that has been fitted with a B kit to prevent leaking during transportation. (mode 1)

Denials
7032-X | Request by Polaroid Corporation Norwood, MA to authorize outside packages exceeding the 100 pounds limitation to be carried aboard cargo aircraft only for shipment of a certain Class 8 solid material denied May 9, 2001.
9831-X | Request by Western Zinc Corporation Los Angeles, CA to authorize the manufacture, mark and sale of vacuum insulated non-DOT specification portable tanks for transportation of helium, refrigerated liquid denied April 2, 2001.
11207-X | Request by Texas Eastern Transmission Corporation Houston, TX to authorize the transportation of certain Class 3 liquids in packaging with a capacity not greater than 5 gallons on service vehicles denied March 9, 2001.
11207-X | Request by Trunkline Gas Company Houston, TX to authorize the transportation of certain Class 3 liquids in packaging with a capacity not greater than 5 gallons on service vehicles denied March 9, 2001.
11207-X | Request by Panhandle Eastern Pipe Line Company Houston, TX to authorize the transportation of certain Class 3 liquids in packaging with a capacity not greater than 5 gallons on service vehicles denied March 9, 2001.
11207-P | Request by Algonquin Energy, Inc. Houston, TX to authorize the transportation of certain Class 3 liquids in packaging with a capacity not greater than 5 gallons on service vehicles denied March 9, 2001.
11207-X | Request by Rockland Electric Company Saddle River, NJ to authorize the transportation of certain Class 3 liquids in packaging with a capacity not greater than 5 gallons on service vehicles denied March 9, 2001.
11207-X | Request by Pike Co. Light and Power Co. Milford, PA to authorize the transportation of certain Class 3 liquids in packaging with a capacity not greater than 5 gallons on service vehicles denied March 9, 2001.
11207-X | Request by Orange and Rockland Utilities, Inc. Middletown, NY to authorize the transportation of certain Class 3 liquids in packaging with a capacity not greater than 5 gallons on service vehicles denied March 9, 2001.
11207-X | Request by OGE Energy Corp dba Oklahoma Gas & Electric Serv. Oklahoma City, OK to authorize the transportation of certain Class 3 liquids in packaging with a capacity not greater than 5 gallons on service vehicles denied March 9, 2001.
11252-M | Request by CCL Container Don Mills, Ontario, CN to modify the exemption to authorize additional relief on the testing requirements of the non-DOT specification metal aerosol containers denied April 2, 2001.
11296-M | Request by Heritage Transport, LLC Indianapolis, IN to modify the exemption to authorize additional UN standard packaging at the Packing Group II performance level for use as overpacks for waste aerosol cans denied February 16, 2001.
11351-X | Request by City of Houston Houston, TX to authorize tank cars, containing chlorine, to remain standing with unloading connections attached when no product is being transferred, provided that a minimal level of monitoring is maintained denied March 20, 2001.
11516-M | Request by CRC Industries, Inc. Warminster, PA to modify the exemption to authorize the transportation of 1,1-Difluoroethane, R152A, reclassed as a Consumer Commodity, in certain DOT Specification 2Q containers; relief from the marking requirements for this material denied August 15, 2001.
11761-P | Request by Elf Atochem North America, Inc. Philadelphia, PA to authorize the transportation in commerce of Class 8 material in rail cars equipped with 165 psig and baffles with alternative rupture disc inspection procedure denied January 21, 2001.
11761-M | Request by Brenntag West, Inc. Santa Fe Springs, CA to modify the exemption to authorize relief from the inspection requirements of the underside rupture disk of the DOT and AAR Specification tank car tanks and the transportation of all Class 8 materials denied December 31, 2001.
12181-N | Request by Aristech Pittsburgh, PA to authorize rail cars to remain attached to connectors without the physical presence of an unloader denied May 24, 2001.
12307-N | Request by Kern County Dept. of Weights & Measures Bakersfield, CA to authorize the transportation of specially designed equipment used for meter proving purposes and transportation of various Class 3 petroleum products to offloading sites denied February 6, 2001.
12433-N | Request by The Lighter Company, Inc. Miami, FL to authorize the transportation and reclassification of lighters in limited quantities to be transported as ORM-D denied February 8, 2001.
12455-N | Request by United States Marine Safety Association Philadelphia, PA to authorize an alternative testing period for 3A, 3AA, and 3AL compressed gas cylinders installed in marine inflatable liferafts undergoing required annual service at a United States Coast Guard approved inflatable liferaft service facility denied February 5, 2001.
12518-N | Request by Air Products & Chemicals, Inc. Allentown, PA to authorize an alternative retesting method of DOT3A, 3AA and 3AL and foreign cylinders for use in transporting liquefied or nonliquefied compressed gases or mixtures denied May 4, 2001.
12535-N | Request by United States Department of Commerce Gaithersburg, MD to authorize the transportation in commerce of unirradiated fuel in carbon steel structures with an alternative distance separation within the transport vehicle denied March 23, 2001.
12535-P | Request by BWX Technologies Lynchburg, VA to authorize the transportation in commerce of unirradiated fuel in carbon steel structures to be transported with alternative distance separation within the transport vehicle denied March 23, 2001.
12566-N | Request by General Atomics San Diego, CA to authorize the transportation in commerce of specially designed device (cartridge) containing limited quantities of various hazardous materials classed in Division 2.1 and 4.1 denied September 12, 2001.
12591-N | Request by SGL Carbon, LLC Morgantown, NC to authorize rail cars to remain connected while standing without the physical presence of an unloader denied November 13, 2001.
12611-N | Request by Hodgdon Powder Co., Inc. Shawnee Mission, KS to authorize the transportation in commerce of smokeless powder for shipments of small arms in quantities that exceed the prescribed limit denied July 11, 2001.
12646-N | Request by Consani Engineering Elsie River, SA to authorize the transportation in commerce of IM101 and IM102 portable tanks for use in transporting certain classes of hazardous materials denied September 17, 2001.
12651-N | Request by I.W.I. Medical Waste Management, Inc. New Smyrna Beach, FL to authorize the transportation in commerce of solid regulated medical waste in non-DOT specification packaging consisting of a bulk outer packaging and a non-bulk inner packaging denied June 4, 2001.
12656-N | Request by Piper Impact, Inc. New Albany, MS to authorize the manufacture, marking, sale and use of DOT specification 3AL cylinders except that total weight and volumetric capacity records for each individual cylinder produced are not required in the inspector's report denied July 6, 2001.
12658-N | Request by Montgomery Manufacturing Company Kennedale, TX to authorize the transportation in commerce of certain hazardous materials with alternative information on shipping papers denied June 4, 2001.
12661-N | Request by United Parcel Service, Inc. (UPS) Atlanta, GA to authorize the transportation in commerce of certain hazardous materials that are not properly packaged, marked, labeled or classed in accordance with the 49 CFR denied June 4, 2001.
12672-N | Request by Safety-Kleen Corp. Columbia, SC to authorize the transportation in commerce of 30 gallon open-head plastic drums without performing leakproofness test prior to reuse denied July 23, 2001.
12672-N | Request by Safety-Kleen Corp. Columbia, SC to authorize the transportation in commerce of 30 gallon open-head plastic drums without performing leakproofness test prior to reuse denied December 11, 2001.
12692-N | Request by Radiopharmaceutical Shippers & Carriers Conference Washington, DC to authorized the use of new shipping names in the new version of ICAO Technical Instructions ahead of DOT rule-making denied July 31, 2001.
12703-N | Request by Aeronex, Inc. San Diego, CA to authorize the manufacture, mark, sale and use of non-DOT specification pressure vessels for use in transporting self heating solid, inorganic, n.o.s. material denied July 2, 2001.
12721-N | Request by General Electric Engine Services Cincinnati, OH to authorize the manufacture, mark, sale and use of non-DOT specification pressure vessels for use in transporting self heating solid, inorganic, n.o.s. material denied June 19, 2001.
12747-N | Request by Brenntag Southeast Inc. Durham, NC to authorize the transportation in commerce of oxidizing solid, n.o.s. in flexible intermediate bulk containers (IBC) shipped in accordance with IMDG regulations without required markings or placardings transported inside box trailers with required placarding denied November 6, 2001.
12752-N | Request by TISEC Inc. Madeira Beach, FL to authorize the transportation in commerce of certain cylinders which have been alternatively ultrasonically retested for use in transporting Division 2.1, 2.2 and 2.3 materials denied August 22, 2001.
12770-N | Request by Empire Airlines, Inc. Coeur d'Alene, ID to authorize an alternative loading method of hazardous materials on cargo aircraft denied September 11, 2001.
12789-N | Request by Scholle Corp. Acid Division Northlake, IL to authorize an alternative loading method of hazardous materials on cargo aircraft denied August 29, 2001.
12816-N | Request by Department of Defense (DOD) Alexandria, VA to authorize the transportation in commerce of radioactive material, Class 7 in specially designed packaging denied December 27, 2001.
12833-N | Request by CIS-US, Inc. Bedford, MA to authorize the transportation in commerce of radioactive material, Class 7 in specially designed packaging denied October 4, 2001.
12836-N | Request by Occidential Chemical Corporation Dallas, TX to authorize the transportation in commerce of radioactive material, Class 7 in specially designed packaging denied October 17, 2001.

[FR Doc. 02-5352 Filed 3-11-02; 8:45 am]

BILLING CODE 4909-60-M